FEDERAL COMMUNICATIONS COMMISSION

47 CFR Chapter I

[CB Docket No. 23-283; DA 23-710; FR ID 170395]

Possible Revision or Elimination of Rules

AGENCY: Federal Communications Commission.

ACTION: Regulatory review; comments requested.

SUMMARY: In this document, the Federal Communication Commission (FCC or Commission) invites the general public to comment on the Commission's rules to be reviewed pursuant to the Regulatory Flexibility Act of 1980, as amended. The purpose of the review is to determine whether Commission rules that the FCC adopted in calendar years 2007-2012 should be continued without change, amended, or rescinded in order to minimize any significant impact the rule(s) may have on a substantial number of small entities. Upon receiving comments from the public, the Commission will evaluate those comments and consider whether action should be taken to rescind or amend the relevant rule(s), or retain the rule(s) without modification.

DATES: Comments may be filed on or before November 27, 2023.

ADDRESSES: You may submit comments, identified by CB Docket No. 23-283 by any of the following methods:

• Electronic Filers: Comments may be filed electronically using the internet by accessing the ECFS: http://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). See https://www.fcc.gov/document/fcc-closes-headquarters-open-window-and-changes-hand-delivery-policy.

People with Disabilities. To request materials in accessible formats for people with disabilities (braille, large print, electronic files, audio format), send an email to fcc504@fcc.gov or call the Consumer & Governmental Affairs Bureau at 202-418-0530.

FOR FURTHER INFORMATION CONTACT: For additional information, contact Joy Ragsdale, Director, Office of Communications Business Opportunities, 202-418-1697, OCBOInfo@fcc.gov or visit www.fcc.gov/ocbo.

SUPPLEMENTARY INFORMATION: This is a synopsis of the Commission's Public Notice document in CB Docket No. 23-283, DA 23-710, released on August 17, 2023. The full version of this document can be located at https://docs.fcc.gov/public/attachments/DA-23-710A1.pdf.

Annually, the Commission will publish a list of 10-year-old rules for review and comment by interested parties pursuant to section 610 of the RFA.

Synopsis

By the Public Notice document, the Office of Communications Business Opportunities announces the Federal Communications Commission's (Commission) plan to review rules the agency adopted in calendar years 2007-2012 that have or will have a significant economic impact on a substantial number of small entities. Section 610 of the Regulatory Flexibility Act (RFA), 5 U.S.C. 610, requires the Commission to determine whether such rules should be continued without change, amended, or rescinded, consistent with the stated objectives of applicable statutes, to minimize any significant economic impact of the rules upon a substantial number of small entities. The Appendix of the Public Notice document lists the rules the Commission will review during the next 12 months. Annually, the Commission will publish a list for the review of rules promulgated 10 years preceding the year of review.

The Commission will consider the following factors in reviewing each rule in a manner consistent with section 610(b) of the RFA:

(a) The continued need for the rule;

(b) The nature of complaints or comments from the public concerning the rule;

(c) The complexity of the rule;

(d) The extent to which the rule overlaps, duplicates, or conflicts with other Federal rules, and, to the extent feasible, with State and local governmental rules; and

(e) The length of time since the rule has been evaluated or the degree to which technology, economic conditions, or other factors have changed in the area affected by the rule.

The Appendix of the Public Notice document includes a brief description, the need for and legal basis of each rule. The Commission invites the general public to comment on these rules in accordance with the instructions below. The Commission will consider all relevant and timely filed comments before it takes final action in this proceeding.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

The proceeding this document initiates shall be treated as a “permit-but-disclose” proceeding in accordance with the Commission's ex parte rules.¹ Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

¹ 47 CFR 1.1200 et seq.

Federal Communications Commission.
Joy Ragsdale,
Director, Office of Communications Business Opportunities.

The Federal Communications Commission (Commission) will review the rules below pursuant to the Regulatory Flexibility Act of 1980, as amended, 5 U.S.C. 610, for the 10-year period beginning in January 2007 and ending December 2012. All of the rules listed below are in Title 47 of the Code of Federal Regulations.

PART 1—PRACTICE AND PROCEDURE

Subpart A—General Rules of Practice and Procedures—Forbearance Proceedings

Brief Description: These rules establish procedures for the submission and handling of petitions for forbearance filed pursuant to section 10 of the Communications Act of 1934, as amended.² In particular, the rules require that forbearance petitions be “complete as filed” and establish procedures to ensure that forbearance petitions are addressed in a timely, equitable, and predictable manner. Further, a forbearance petition may no longer be withdrawn or significantly narrowed by the petitioner without Commission authorization after the tenth business day after the due date for reply comments.

² 47 U.S.C. 160(c) (“Any telecommunications carrier, or class of telecommunications carriers, may submit a petition to the Commission requesting that the Commission exercise the authority granted under this section with respect to that carrier or those carriers, or any service offered by that carrier or carriers.”).

Need: These rules implement procedures for handling forbearance petitions in a manner that is front-loaded, actively managed, transparent, and fair.

Legal Basis: 47 U.S.C. 151, 154(i), 154(j), 155(c), 160, 201, and 303(r).

Section Number and Title:

1.55 Public notice of petitions for forbearance.

1.56 Motions for summary denial of petitions for forbearance.

1.57 Circulation and voting of petitions for forbearance.

1.58 Forbearance petition quiet period prohibition.

1.59 Withdrawal or narrowing of petitions for forbearance.

Brief Description: These rule sections implement the Truth in Caller ID Act of 2009,³ and prohibit any person or entity from knowingly spoofing caller identification information with the intent to defraud, cause harm, or wrongfully obtain anything of value. Sections 1.80(a)(4), (b)(3) and (c) establish forfeiture provisions for violations of the Truth in Caller ID Act or the Commission's rules under the Truth in Caller ID Act.

³ The President signed the Truth in Caller ID Act into law on December 22, 2010. Truth in Caller ID Act of 2009, Public Law 111-331, codified at 47 U.S.C. 227(e).

Need: These rule sections carry out the Commission's statutory obligation to implement the Truth in Caller ID Act.

Legal Basis: Section 2 of the Truth in Caller ID Act of 2009, Public Law 11-331. 47 U.S.C. 151, 154(i), 154(j), 227, and 303(r).

Section Number and Title:

1.80(a)(4), (b)(3), (c) Forfeiture Proceedings.

Subpart E—Complaints, Applications, Tariffs, and Reports Involving Common Carriers

Brief Description: Section 1.767 of the Commission's rules sets forth the application filing requirements for submarine cable landing licenses. During the relevant review period, the Commission amended the cable landing license application rules and application procedures to require applicants to certify their compliance with the Coastal Zone Management Act of 1972 (CZMA).

Need: The rules are needed to ensure that Commission processing of certain submarine cable landing license applications comports with the consistency review procedures specified in the CZMA.

Legal Basis: 47 U.S.C. 151, 154(i), 154(j), 155, 157, 225, 303(r), and 309.

Section Number and Title:

1.767(a)(10) note, (j), (k)(4) Cable landing licenses.

Subpart G—Schedule of Statutory Charges and Procedures for Payment

Brief Description: These rules specify the schedule of annual regulatory fees and filing locations for the designated payors.

Need: Congress sets the amount the Commission must collect each year in the Commission's fiscal year appropriations. Section 9(a)(2) of the Communications Act of 1934, as amended (Act) requires the Commission to collect fees sufficient to offset the amount appropriated.⁴ These rules specify the fees for the Commission's regulatees.

⁴ 47 U.S.C. 159(a)(2).

Legal Basis: 47 U.S.C. 159.

Section Number and Title:

1.1102 Revised—Schedule of charges for applications and other filings in the wireless telecommunications services.

1.1103 Revised—Schedule of charges for experimental radio services.

1.1104 Revised—Schedule of charges for applications and other filings for media services.

1.1105 Revised—Schedule of charges for applications and other filings for the wireline competition services.

1.1106 Revised—Schedule of charges for applications and other filings for the enforcement services.

1.1107 Revised—Schedule of charges for applications and other filings for the international services.

1.1108 Reserved.

1.1109 Revised—Schedule of charges for applications and other filings for the Homeland services.

1.1110 [correctly redesignated as 1.112]; new 1.1110 correctly added Attachment of charges.

1.1111 [correctly redesignated as 1.113]; new 1.1111 correctly added Payment of charges.

1.1112 [correctly redesignated as 1.114]; new 1.1112 correctly added Form of payment.

1.1113 [correctly redesignated as 1.115]; new 1.1113 correctly added Filing locations.

1.1114 Conditionality of Commission or staff authorizations.

1.1115 Return or refund of charges.

1.1116 General exemptions to charges.

1.1117 Adjustments to charges.

1.1118 Penalty for late or insufficient payments.

1.1119 Petitions and applications for review.

1.1120 [correctly redesignated from 1.1118]; (a) revised Error claims.

1.1121 [correctly redesignated from 1.1119]; (b) revised Billing procedures.

1.1152 Revised—Schedule of annual regulatory fees for wireless radio services.

1.1153 Revised—Schedule of annual regulatory fees and filing locations for mass media services.

1.1154 Revised—Schedule of annual regulatory charges for common carrier services.

1.1155 Revised—Schedule of regulatory fees for cable television services.

1.1156 Revised; Eff. Date corrected; Revised—Schedule of regulatory fees for international services.

1.1164 (c) Revised—Penalties for late or insufficient regulatory fee payments.

1.1166 (b) Revised—Waivers, reductions and deferrals of regulatory fees.

1.1166 (d) Amended—Waivers, reductions and deferrals of regulatory fees.

Subpart X—Spectrum Leasing

Brief Description: These rules pertain to spectrum leasing arrangements between licensees in the services identified in this subpart and spectrum lessees.

Need: These rules extend the Commission's secondary market spectrum manager spectrum leasing policies, procedures, and rules that apply to wireless terrestrial services to terrestrial services provided using the Ancillary Terrestrial Component (ATC) of a Mobile Satellite Service (MSS) system.

Legal Basis: 15 U.S.C. 79 et seq.; 47 U.S.C. 151, 154(i), 154(j), 155, 157, 225, 303(r), and 309.

Section Number and Title:

1.9001 Purpose and scope.

1.9005 Included services.

1.9020 Spectrum manager leasing arrangements.

1.9049 Special Provisions relating to spectrum leasing arrangements involving the Ancillary Terrestrial Component of Mobile Satellite Services.

Subpart AA—Competitive Bidding for Universal Service Support

Brief Description: These rules set forth procedures for competitive bidding to determine the recipients of universal service support pursuant to part 54 and the amount(s) of support that each recipient respectively may receive, subject to post-auction procedures, when the Commission directs that such support shall be determined through competitive bidding. The rules establish requirements for applications to participate in competitive bidding, restrict certain communications during the competitive process, and establish a winning bidder's obligation to apply for support.

Need: These rules implement competitive bidding processes for the allocation of high-cost universal service support, helping to ensure the most efficient and effective use of public resources.

Legal Basis: 47 U.S.C. 151, 152, 154(i), 201-206, 214, 218-220, 251, 252, 254, 256, 303(r), 332, 403, and 1302.

Section Number and Title:

1.21000 Purpose.

1.21001 Participation in competitive bidding for support.

1.21002 Prohibition of certain communications during the competitive bidding process.

1.21003 Competitive bidding process.

1.21004 Winning bidder's obligation to apply for support.

PART 2—FREQUENCY ALLOCATIONS AND RADIO TREATY MATTERS; GENERAL RULES AND REGULATIONS

Subpart B—Allocation, Assignment, and Use of Radio Frequencies

Brief Description: Section 2.106 contains the Table of Frequency Allocations, which specifies the Federal and non-Federal radio services that may operate in certain frequency bands, as well as the operating conditions for each service, including power limits and coordination procedures. Footnote US23 governs Amateur Radio Service operations in the 5330.5-5406.4 kHz band. Footnote US64 governs Medical Device Radiocommunication Service (MedRadio) operations in the 401-406 MHz, 413-419 MHz, 426-432 MHz, 438-444 MHz, and 451-457 MHz bands. Footnote US338 governs Wireless Communications Service (WCS) operations in the 2305-2320 MHz band.

Need: The Table of Frequency Allocations is needed to allow Federal and non-Federal services to operate safely and without causing harmful interference. The Table is amended frequently to revise existing allocations and add new allocations, generally promoting more efficient and productive use of radio spectrum.

Legal Basis: 47 U.S.C. 154, 302a, 303, and 336.

Section Number and Title:

2.106 US23, US64, US338 Table of Frequency Allocations.

Brief Description: Part 2 contains the Commission's Table of Frequency Allocations as well as terminology and rules governing bandwidths, call signs, and other transmission identifiers, distress, disaster and emergency communications, prohibition against use of radio devices for eavesdropping, and marketing of radio-frequency devices.

Need: Part 2 rules establish the allocations for spectrum use.

Legal Basis: 47 U.S.C. 154, 302a, 303, and 336.

Section Number and Title:

2.106 Table of Frequency Allocations.

Subpart J—Equipment Authorization Procedures

Brief Description: Section 2.1093 specifies which portable devices must undergo radiofrequency (RF) radiation exposure evaluation and 2.1093(c) specifies how that evaluation must be done.

Need: These rules are needed to satisfy the Commission's responsibilities under the National Environmental Policy Act to evaluate the environmental significance of its actions and to minimize the chance of harmful interference.

Legal Basis: 47 U.S.C. 154, 302a, 303, and 336.

Section Number and Title:

2.1093(c) Radiofrequency radiation exposure evaluation: portable devices.

Subpart K—Importation of Devices Capable of Causing Harmful Interference

Brief Description: Section 2.1204 specifies the conditions under which RF devices may be imported into the United States. Section 2.1204(a)(9) governs medical implant transmitters, specifying that these devices must either comply with the Part 95 rules or be only for the personal use of the person in whom the device has been inserted or on whom the body-worn device is applied.

Need: These rules are needed to prevent unauthorized and non-complaint RF devices from being imported into the United States and causing harmful interference.

Legal Basis: 47 U.S.C. 154, 302a, 303, and 336.

Section Number and Title:

2.1204(a)(9) Import conditions.

PART 4—DISRUPTIONS TO COMMUNICATIONS

Brief Description: These rules expanded the Commission's existing Part 4 outage reporting requirement to include a new class of providers—Interconnected Voice over internet Protocol. They also provide for the appropriate thresholds for outage impact and duration to trigger reporting obligations to the Commission.

Need: These provisions support the Commission's statutory obligations to ensure the public safety can make emergency calls by ensuring the integrity and reliability of the Nation's communications networks and the service those in need use to reach 911. The expansion and continued use of IP-based voice protocols for consumer calling, particularly in emergencies, underscores the relevance of these provisions.

Legal Basis: Sec. 5, 48 Stat. 1068, as amended; 47 U.S.C. 154, 155, 201, 251, 307, 316, 615a-1, 1302(a), and 1302(b).

Section Number and Title:

4.3 Communications Providers Covered by the Requirements of this Part.

4.7 Definitions of metrics used to determine the general outage-reporting threshold criteria.

4.9 Outage reporting requirements—threshold criteria.

PART 6—ACCESS TO TELECOMMUNICATIONS SERVICE, TELECOMMUNICATIONS EQUIPMENT AND CUSTOMER PREMISES EQUIPMENT BY PERSONS WITH DISABILITIES

Subpart A—Scope—Who must comply with these rules?

Brief Description: Part 6, subpart A implements section 255 of the Telecommunications Act to ensure that people with disabilities have access to telecommunications services and related equipment, if readily achievable. These rules increase the accessible products and services available in the marketplace. section 255 of the Act requires manufacturers of “telecommunications equipment or customer premises equipment” to ensure that such equipment is accessible to and usable by individuals with disabilities, if readily achievable, and requires providers of a “telecommunications service” to ensure that the service is accessible to and usable by individuals with disabilities, if readily achievable. In 2007, the rules were amended by adding paragraphs (d) and (e) to § 6.1, extending those disability access requirements that applied to telecommunications service providers and equipment manufacturers under section 255 of the Act and 47 CFR part 6, to providers of “interconnected Voice over internet Protocol (VoIP) services,” as defined by the Commission, and to manufacturers of specially designed equipment used to provide those services.

Need: The added rules extend the disability access requirements that applied to telecommunications service providers and equipment manufacturers under section 255 of the Communications Act of 1934, as amended, to providers of “interconnected Voice over internet Protocol services,” as defined by the Commission, and to manufacturers of specially designed equipment used to provide those services.

Legal Basis: 47 U.S.C. 151-154, 251, 255, and 303(r).

Section Number and Title:

6.1(d) Applicability.

6.1(e) Applicability.

Subpart B—Definitions

Brief Description: Part 6, Subpart B implements sections 251 and 255 of the Communications Act of 1934, as amended. In adopting section 255, Congress sought to ensure that all Americans, including Americans with disabilities, benefit from advances in telecommunications services and equipment. Section 255 requires providers of telecommunications services and manufacturers of telecommunications equipment or customer premises equipment to ensure that such services and equipment are accessible to and usable by individuals with disabilities, if readily achievable. Section 251(a)(2) of the Act prohibits telecommunications carriers from installing network features, functions, or capabilities that do not comply with the guidelines and standards established pursuant to section 255. These rules clarify who must comply with requirements covering telecommunications equipment and services and define certain terms related to those manufacturers and service providers to which the rules apply.

Need: The rules are intended to facilitate communication by persons with disabilities by ensuring that all commonly used communications equipment and services are available to and accessible by individuals with disabilities, including recently developed equipment and services, such as equipment and service used with Voice over internet Protocol (VoIP).

Legal Basis: 47 U.S.C. 151, 152, 251, 255, and 303(r).

Section Number and Titles:

6.3(c), (e), (j), (k) Definitions.

PART 8—INTERNET FREEDOM

Brief Description: Section 8.11(a) provides a definition of “broadband internet access service;” § 8.11(d) provides a definition of “reasonable network management practices.”

Need: These definitions are needed in connection with Commission programs such as the Broadband Data Collection.

Legal Basis: 47 U.S.C. 151, 152, 153, 154, 201, 218, 230, 251, 254, 256, 257, 301, 303, 304, 307, 309, 316, 332, 403, 503, 522, 536, 548, and 1302.

Section Number and Title:

8.11(a), (d) Transparency.

PART 10—WIRELESS EMERGENCY ALERTS

Subpart A—General Information

Brief Description: These rules provide the parameters for wireless service providers to implement the statutory Commercial Mobile Alert System (CMAS), now referred to as Wireless Emergency Alerts (WEA), including relevant timeframes and technical parameters associated with WEA infrastructure, messaging support, alert tones and similar.

Need: These provisions support the operation of WEA—a statutory component of the Nation's alert and warning system and help ensure the timely and accurate transmission of wireless alerts and warnings.

Legal Basis: 47 U.S.C. 151, 154(i) and (o), 201, 303(r), 403, and 606, as well as sections 602(a),(b),(c), (f), 603, 604 and 606 of the WARN Act.

Section Number and Title:

10.20 Purpose.

10.10 Definitions.

10.11 CMAS Implementation Timeline.

Subpart C—System Architecture

10.320 Provider Alert Gateway Requirements.

10.330 Provider Infrastructure Requirements.

Brief Description: These rules support the operational changes necessary and the implementation/testing requirements for the Commercial Mobile Alert System (CMAS), now known as Wireless Emergency Alerts (WEA)—a statutory component of the Nation's alert and warning system. They direct the installation of necessary equipment, and prescribe the parameters for testing the system and keeping record of its operation.

Need: These provisions support the operation of WEA—a statutory component of the Nation's alert and warning system and help ensure the timely and accurate transmission of wireless alerts and warnings.

Legal Basis: 47 U.S.C. 151, 154(i) and (o), 201, 303(r), 403, and 606, as well as sections 602(a),(b),(c), (f), 603, 604 and 606 of the WARN Act.

Section Number and Title:

10.340 Digital Television Transmission Towers Retransmission Capability

10.350 CMAS Testing Requirements

Subpart D—Alert Message Requirements

Brief Description: These rules provide the parameters for wireless service providers to implement the statutory Commercial Mobile Alert System (CMAS), now referred to as Wireless Emergency Alerts (WEA), including relevant timeframes and technical parameters associated with WEA infrastructure, messaging support, alert tones and similar.

Need: These provisions support the operation of WEA—a statutory component of the Nation's alert and warning system and help ensure the timely and accurate transmission of wireless alerts and warnings.

Legal Basis: 47 U.S.C. 151, 154(i) and (o), 201, 303(r), 403, and 606, as well as sections 602(a),(b),(c), (f), 603, 604 and 606 of the WARN Act.

Section Number and Title:

10.400 Classification.

10.410 Prioritization.

10.420 Message Elements.

10.430 Character Limit.

10.440 Embedded Reference Prohibition.

10.450 Geographic Targeting.

10.470 Roaming.

Subpart E—Equipment Requirements

Section Number and Title:

10.500 General Requirements.

10.510 Call preemption prohibition.

10.520 Common Audio Attention Signal.

10.530 Common Vibration Cadence.

PART 11—EMERGENCY ALERT SYSTEM (EAS)

Subpart A—General

Brief Description: Part 11 sets forth the rules governing the Emergency Alert System (EAS).

Need: The rules are needed to implement the Commission's policies and requirements concerning the EAS, which provides Federal, State, local, territorial, and Tribal government agencies with the capability to provide immediate communications and information to the general public regarding emergency situations. EAS is a system for distributing emergency alerts by transmitting audio and visual messages over the facilities of radio and television broadcasters, cable service providers, direct broadcast satellite providers, and other participating entities.

Legal Basis: 47 U.S.C. 151, 154 (i) and (o), 303(r), 544(g), 606, 1201, and 1206.

Section Number and Title:

11.2 Definitions.

11.11(a), (d) The Emergency Alert System (EAS).

11.21(a) State and Local Area Plans and FCC Mapbook.

Subpart B—Equipment Requirements

Brief Description: EAS uses a four-part message for an emergency activation of the EAS. The four parts are: Preamble and EAS Header Codes; audio Attention Signal; message; and Preamble and EAS End of Message (EOM) Codes. Subpart B outlines the equipment requirements to provide the service.

Need: These amendments specify up-to-date technology to ensure that EAS messages are provided seamlessly, promptly, and accurately.

Legal Basis: 47 U.S.C. 151, 154 (i) and (o), 303(r), 544(g), 606, 1201, and 1206.

Section Number and Title:

11.31 (c), (e), (f) EAS Protocol.

11.32 (a)(2), (a)(3), (a)(9)(iv) EAS Encoder.

11.33 (a) introductory text, (a)(1), (a)(4), (a)(7), (a)(11) EAS Decoder.

11.34(d) Acceptability of the equipment.

11.35(a), (b) Equipment operational readiness.

Subpart C—Organization

Brief Description: Entities that wish to voluntarily participate in the national level EAS may submit a written request to the Chief, Public Safety and Homeland Security Bureau. Subpart C provides the regulatory organization for EAS.

Need: The revision provides that All EAS Participants specified in § 11.11 are categorized as Participating National (PN) sources and must have immediate access to an EAS Operating Handbook.

Legal Basis: 47 U.S.C. 151, 154 (i) and (o), 303(r), 544(g), 606, 1201, and 1206.

Section Number and Title:

11.41 Participation in EAS.

Subpart D—Emergency Operations

Brief Description: Analog and digital broadcast stations must transmit, either automatically or manually, national level EAS messages and required tests by sending the EAS header codes, Attention Signal, emergency message and End of Message (EOM) codes using the EAS Protocol. Subpart D outlines Emergency operations.

Need: The revisions provide for modernizing the EAS to make it capable of processing Common Alerting Protocol (CAP) formatted alert messages is necessary and consistent with the Commission's statutory goals, because a CAP-based EAS will be more flexible and robust than the current system. In this regard, we observe that the rules we adopt today will integrate the EAS with the Federal Emergency Management Agency's (FEMA) Integrated Public Alert and Warning System (IPAWS). This will allow authorized alert initiators to issue alerts that will be delivered simultaneously by the EAS as well as the Personal Localized Alerting Network (PLAN). A CAP-based EAS will also be compatible with the many State alerting systems that are switching to CAP.

Legal Basis: 47 U.S.C. 151, 154 (i) and (o), 303(r), 544(g), 606, 1201, and 1206.

Section Number and Title:

11.51(a), (c), (d), (g)(3), (h)(3), (i), (j) introductory text, (j)(2), (m), (p) EAS code and Attention Signal Transmission requirements.

11.52(a), (d), (e) introductory text, (e)(2) EAS code and Attention Signal Monitoring requirements.

11.54 EAS operation during a National Level emergency.

11.55(a), (c) introductory text, (c)(3) and (4), (c)(7) and (8), (d) EAS operation during a State or Local Area emergency.

11.56 Obligation to process CAP-formatted EAS messages.

Subpart E—Tests

Brief Description: Subpart E sets forth the rules governing testing of the Emergency Alert System (EAS).

Need: The EAS is subject to weekly and monthly tests at the State and local level, such tests may not expose vulnerabilities in functioning or gaps in nationwide coverage. For example, EAS PEP station operational and maintenance requirements are the responsibility of FEMA, which tests the PEP stations but typically does not test other stations. The NWS tests its own National Weather Radio (NWR) facilities independently or as integrated with State and local level emergency alert delivery architectures, but again, its focus is solely on the proper operation of NWS/NWR facilities as those facilities interact with State and local EAS architectures. State EOC facilities are maintained by their respective State officials. None of these entities has been responsible for “top-to-bottom” national testing of EAS. Sections 11.61 (a), (a)(1)(i), (a)(2)(ii), (a)(3), and (b) provide for more complete testing including end to end testing.

Legal Basis: 47 U.S.C. 151, 154 (i) and (o), 303(r), 544(g), 606, 1201, and 1206.

Section Number and Title:

11.61(a) introductory text, (a)(1)(i), (a)(2)(ii), (a)(3), (b) Tests of EAS procedures.

PART 14—ACCESS TO ADVANCED COMMUNICATIONS SERVICES AND EQUIPMENT BY PEOPLE WITH DISABILITIES

Subpart A—Scope

Brief Description: Part 14 implements the requirements of section 716 of the Communications Act of 1934, as amended, which requires providers of advanced communication services (ACS) and manufacturers of equipment used for ACS to make their products accessible to people with disabilities, unless accessibility is not achievable. The Commission also adopts rules to implement section 717 of the Communications Act of 1934, as amended, which requires the Commission to establish new recordkeeping and enforcement procedures for manufacturers and providers subject to sections 255, 716 and 718. Part 14 requires manufacturers and service providers subject to section 716 to comply with the requirements of section 716 either by building accessibility features into their equipment or service or by relying on third party applications or other accessibility solutions. If accessibility is not achievable by building in accessibility or relying on third party applications or other accessibility solutions, manufacturers and service providers must make their products compatible with existing peripheral devices or specialized customer premises equipment commonly used by individuals with disabilities to achieve access, unless that is not achievable. Part 14 includes a temporary self-executing exemption for small businesses to avoid the possibility of unreasonably burdening small and entrepreneurial innovators during the initial compliance period. Part 14 also establishes procedures to facilitate the filing of formal and informal complaints.

Need: Part 14 implements Congress' mandate that people with disabilities have access to advanced communications services (ACS) and ACS equipment. Specifically, these rules implement sections 716 and 717 of the Communications Act of 1934, as amended, which were added by the “Twenty-First Century Communications and Video Accessibility Act of 2010” (CVAA). ACS plays a fundamental role in today's world, and these rules remain necessary to ensure that people with disabilities can access ACS services and equipment to fully participate in business, family, social, and other activities. The temporary self-executing exemption for small businesses expired on October 8, 2013, is no longer needed and may be deleted.

Legal Basis: 47 U.S.C. 151-154, 251, 255, 303(r), 403, 503, 616, 617, and 618.

Section Number and Titles:

14.1 Applicability.

14.2 Limitations.

14.3 Exemption for Customized Equipment or Services.

14.4 Exemption for Small Entities.

14.5 Waivers—Multi-purpose Services and Equipment.

Subpart B—Definitions

Brief Description: Part 14 implements the requirements of section 716 of the Communications Act of 1934, as amended, which requires providers of advanced communication services (ACS) and manufacturers of equipment used for ACS to make their products accessible to people with disabilities, unless accessibility is not achievable. The Commission also adopts rules to implement section 717 of the Communications Act of 1934, as amended, which requires the Commission to establish new recordkeeping and enforcement procedures for manufacturers and providers subject to sections 255, 716 and 718. Part 14 requires manufacturers and service providers subject to section 716 to comply with the requirements of section 716 either by building accessibility features into their equipment or service or by relying on third party applications or other accessibility solutions. If accessibility is not achievable by building in accessibility or relying on third party applications or other accessibility solutions, manufacturers and service providers must make their products compatible with existing peripheral devices or specialized customer premises equipment commonly used by individuals with disabilities to achieve access, unless that is not achievable. Part 14 also establishes procedures to facilitate the filing of formal and informal complaints.

Need: Part 14 implements Congress' mandate that people with disabilities have access to advanced communications services (“ACS”) and ACS equipment. Specifically, these rules implement sections 716 and 717 of the Communications Act of 1934, as amended, which were added by the “Twenty-First Century Communications and Video Accessibility Act of 2010” (CVAA). ACS plays a fundamental role in today's world, and these rules remain necessary to ensure that people with disabilities can access ACS services and equipment to fully participate in business, family, social, and other activities.

Legal Basis: 47 U.S.C. 151-154, 251, 255, 303(r), 403, 503, 616, 617, and 618.

Section Number and Titles:

14.10 Definitions.

Subpart C—Implementation Requirements—What must covered entities do?

Brief Description: Part 14 implements the requirements of section 716 of the Communications Act of 1934, as amended, which requires providers of advanced communication services (ACS) and manufacturers of equipment used for ACS to make their products accessible to people with disabilities, unless accessibility is not achievable. The Commission also adopts rules to implement section 717 of the Communications Act of 1934, as amended, which requires the Commission to establish new recordkeeping and enforcement procedures for manufacturers and providers subject to sections 255, 716 and 718. Part 14 requires manufacturers and service providers subject to section 716 to comply with the requirements of section 716 either by building accessibility features into their equipment or service or by relying on third party applications or other accessibility solutions. If accessibility is not achievable by building in accessibility or relying on third party applications or other accessibility solutions, manufacturers and service providers must make their products compatible with existing peripheral devices or specialized customer premises equipment commonly used by individuals with disabilities to achieve access, unless that is not achievable. Part 14 also establishes procedures to facilitate the filing of formal and informal complaints.

Need: Part 14 implements Congress' mandate that people with disabilities have access to advanced communications services (ACS) and ACS equipment. Specifically, these rules implement sections 716 and 717 of the Communications Act of 1934, as amended, which were added by the “Twenty-First Century Communications and Video Accessibility Act of 2010” (CVAA). ACS plays a fundamental role in today's world, and these rules remain necessary to ensure that people with disabilities can access ACS services and equipment to fully participate in business, family, social, and other activities.

Legal Basis: 47 U.S.C. 151-154, 251, 255, 303(r), 403, 503, 616, 617, and 618.

Section Number and Titles:

14.20 Obligations.

14.21 Performance Objectives.

Subpart D—Recordkeeping, Consumer Dispute Assistance, and Enforcement

Brief Description: Part 14 implements the requirements of section 716 of the Communications Act of 1934, as amended, which requires providers of advanced communication services (ACS) and manufacturers of equipment used for ACS to make their products accessible to people with disabilities, unless accessibility is not achievable. The Commission also adopts rules to implement section 717 of the Communications Act of 1934, as amended, which requires the Commission to establish new recordkeeping and enforcement procedures for manufacturers and providers subject to sections 255, 716 and 718. Part 14 requires manufacturers and service providers subject to section 716 to comply with the requirements of section 716 either by building accessibility features into their equipment or service or by relying on third party applications or other accessibility solutions. If accessibility is not achievable by building in accessibility or relying on third party applications or other accessibility solutions, manufacturers and service providers must make their products compatible with existing peripheral devices or specialized customer premises equipment commonly used by individuals with disabilities to achieve access, unless that is not achievable. Part 14 also establishes procedures to facilitate the filing of formal and informal complaints.

Need: Part 14 implements Congress' mandate that people with disabilities have access to advanced communications services (“ACS”) and ACS equipment. Specifically, these rules implement sections 716 and 717 of the Communications Act of 1934, as amended, which were added by the “Twenty-First Century Communications and Video Accessibility Act of 2010” (CVAA). ACS plays a fundamental role in today's world, and these rules remain necessary to ensure that people with disabilities can access ACS services and equipment to fully participate in business, family, social, and other activities.

Legal Basis: 47 U.S.C. 151-154, 251, 255, 303(r), 403, 503, 616, 617, and 618.

Section Number and Titles:

14.30 Generally.

14.31 Recordkeeping.

14.32 Consumer Dispute Assistance.

14.33 Informal or formal complaints.

14.34 Informal complaints; form, filing, content, and consumer assistance.

14.35 Procedure; designation of agents for service.

14.36 Answers and replies to informal complaints.

14.37 Review and disposition of informal complaints.

14.38 Formal Complaints; General pleading requirements.

14.39 [superseded by subpart E of part 1, 1.722] Format and content of formal complaints.

14.40 [superseded by subpart E of part 1, 1.723] Damages.

14.41 [superseded by subpart E of part 1, 1.725] Joinder of complainants and causes of action.

14.42 [superseded by subpart E of part 1, 1.726]

14.43 [superseded by subpart E of part 1, 1.727] Cross-complaints and counterclaims.

14.44 [superseded by subpart E of part 1, 1.728] Replies.

14.45 [superseded by subpart E of part 1, 1.729] Motions.

14.46 [superseded by subpart E of part 1, 1.721(r) and (s)] Formal complaints not stating a cause of action; defective pleadings.

14.47 [superseded by subpart E of part 1, 1.730] Discovery.

14.48 [superseded by subpart E of part 1, 1.731] Confidentiality of information produced or exchanged by the parties.

14.49 [superseded by subpart E of part 1, 1.732] Other required written submissions.

14.50 [superseded by subpart E of part 1, 1.733] Status conference.

14.51 [superseded by subpart E of part 1, 1.49 through 1.52] Specifications as to pleadings, briefs, and other documents; subscription.

14.52 [superseded by subpart E of part 1, 1.734] Copies; service; separate filings against multiple defendants.

PART 15—RADIO FREQUENCY DEVICES

Subpart A—General

Brief Description: These rules set forth the definitions for various terms and the measurement procedures that must be used to determine whether devices comply with the Commission's RF emissions limits. These rules cover, among other devices, Broadband Power Line (BPL) devices, Unlicensed Personal Communications Service (UPCS) devices, and field disturbance sensors.

Need: These rules are needed to allow operators of devices, including Broadband Power Line (BPL) devices, Unlicensed Personal Communications Service (UPCS) devices, and field disturbance sensors, to accurately measure and determine whether their devices comply with the Commission's RF emissions limits.

Legal Basis: 47 U.S.C. 154, 302a, 303, 304, 307, 336, 544a, and 549.

Section Number and Title:

15.3(hh) Definitions.

15.31(a)(2), (f)(2) and (3) Measurement standards.

15.35(b) Measurement detector functions and bandwidths.

15.38 Incorporation by reference.

Subpart C—Intentional Radiators

Brief Description: Section 15.212 defines the different types of modular transmitters and sets forth the requirements for obtaining approval for these devices under Part 15 of the Commission's rules.

Need: These rules are needed to provide efficient equipment authorization procedures for modular transmitter devices, enabling manufacturers to develop more advanced unlicensed transmitter technologies without causing harmful interference.

Legal Basis: 47 U.S.C. 154, 302a, 303, 304, 307, 336, and 544a.

Section Number and Title:

15.212 Modular transmitters.

Subpart D—Unlicensed Personal Communications Service Devices

Brief Description: These rules set forth general technical requirements for Unlicensed Personal Communications Service (UPCS) devices, and specific requirements for UPCS devices operating in the 1920-1930 MHz band.

Need: These rules are needed to ensure UPCS devices operate as intended and do not cause harmful interference.

Legal Basis: 47 U.S.C. 154, 302a, 303, 304, 307, 336, and 544a.

Section Number and Title:

15.319(b) General technical requirements.

15.323(a), (c)(5), (d), (e) Specific requirements for devices operating in the 1920-1930 MHz band.

Subpart G—Access Broadband Over Power Line (Access BPL)

Brief Description: Section 15.611 sets forth general technical requirements for Broadband Power Line (BPL) systems. Paragraph (c) of this section specifies the interference mitigation and avoidance requirements for BPL systems. Paragraph (c)(1)(i) of this section clarifies that for frequencies below 30 MHz, when a notch filter is used to avoid interference to a specific band, the BPL system must be capable of attenuating emissions within that band to a level at least 25 dB below the applicable part 15 limits.

Need: This rule clarifies what steps a Broadband Power Line (BPL) system operator must take to avoid causing harmful interference.

Legal Basis: 47 U.S.C. 154, 302a, 303, 304, 307, 336, 544a, and 549.

Section Number and Title:

15.611(c)(1)(i) General technical requirements.

Subpart H—White Space Devices

Brief Description: These rules specify how White Space Devices may operate safely in certain bands. These rules cover the scope of subpart H, definitions, cross references, user information, permissible channels of operation, general technical requirements, interference avoidance methods, interference protection requirements, white space databases, database administration fees, database administrators, and white space devices that rely on spectrum sensing.

Need: These rules enable white space devices to operate on an unlicensed basis using television channels that are vacant in certain markets without causing harmful interference.

Legal Basis: 47 U.S.C. 154, 302a, 303, 304, 307, 336, and 544a.

Section Number and Title:

15.701 Scope.

15.703 Definitions.

15.705 Cross reference.

15.706 Information to the user.

15.707 Permissible channels of operation.

15.709 General technical requirements.

15.711 Interference avoidance methods.

15.712 Interference protection requirements.

15.713 White space database.

15.714 White space database administration fees.

15.715 White space database administrator.

15.717 White space devices that rely on spectrum sensing.

PART 20—COMMERICAL MOBILE SERVICES

Brief Description: Part 20 rules set forth the Commission's requirements and conditions for commercial mobile radio service providers under the Communications Act of 1934, as amended. Section 20.12(d) requires host carriers to provide automatic roaming to technologically compatible, facilities-based CMRS carriers on reasonable and not unreasonably discriminatory terms and conditions. Sections 20.12(a)(3) and (e) require facilities-based providers of commercial mobile data services to offer roaming arrangements to other such providers on commercially reasonable terms, subject to certain limitations. Section 20.19 requires wireless handset manufacturers and terrestrial mobile service providers to make available to consumers a minimum number of handsets that meet specified technical criteria for hearing aid compatibility and to disclose certain information to consumers about a handset's hearing aid compatibility.

Need: Section 20.12 is needed on an ongoing basis to implement the Commission's interconnection regulations between local exchange carriers and commercial mobile radio providers. Section 20.19 is needed on an ongoing basis to ensure reasonable access to commercial mobile services by persons with impaired hearing, as required under 47 U.S.C. 610.

Legal Basis: 47 U.S.C. 151, 152(a), 154(i), 157, 160, 201, 214, 222, 251(e), 301, 302, 303, 303(b), 303(r), 307, 307(a), 309, 309(j)(3), 316, 316(a), 332, 610, 615, 615(a), 615(b), and 615(c), unless otherwise noted.

Section Number and Title:

20.12(a)(3), (d), (e) Resale and roaming.

20.19(a)(3)(i), (b)(3), (c) introductory text, (c)(1)(ii)(C), (e)(1)(ii) and (iii), (f)(2) introductory text, (f)(2)(iii), (f)(3), (l) Hearing aid-compatible mobile handsets.

PART 25—SATELLITE COMMUNICATIONS

Subpart B—Applications and Licenses

Brief Description: Part 25 contains the Commission's rules governing the licensing and operation of space stations and earth stations. It includes application requirements, technical requirements, operational requirements, and coordination requirements for various satellite services. The rules also define the Commission's processing of applications.

Need: Part 25 rules are needed to ensure that satellite services may be provided without harmful interference and consistent with the public interest.

Legal Basis: 47 U.S.C. 154, 157, 301, 302, 303, 307, 309, 310, 316, 319, 332, 605, and 701-744.

Section Number and Title:

25.114 Applications for space station authorizations.

25.115 Applications for earth station authorizations,

25.130 Filing requirements for transmitting earth stations.

25.132 Verification of earth station antenna performance standards.

25.134 Licensing provisions of Very Small Aperture Terminal (VSAT) and C-band Small Aperture Terminal (CSAT) networks.

25.138 Blanket Licensing provisions of GSO FSS Earth Stations in 18.3-18.8 GHz (space-to-Earth), 19.7-20.2 GHz (space-to-Earth), 28.35-28.6 GHz (Earth-to-space), and 29.25-30.0 GHz (Earth-to-space) bands.

25.149 Application requirements for ancillary terrestrial components in Mobile-Satellite Service networks operating in the 1.5/1.6 GHz and 1.62/2.4 GHz Mobile Satellite Service.

25.201 Definitions.

Subpart C—Technical Standards

25.202 Frequencies, frequency tolerance and emission limits.

25.203 Choice of sites and frequencies.

25.204 Power limits for earth stations.

25.205 Minimum antenna elevation angle.

25.209 Earth station antenna performance standards.

25.212 Narrowband analog transmissions, digital transmissions, and video transmissions in the GSO Fixed-Satellite Services.

25.218 Off-axis EIRP density envelopes for FSS earth station transmitting in certain frequency bands.

25.220 Non-routine transmit/receive earth station operations.

25.221 Blanket Licensing provisions for Earth Stations on Vessels (ESVs) receiving in the 3700-4200 MHz (space-to-Earth) band and transmitting in the 5925-6425 MHz (Earth-to-space) band, operating with GSO Satellites in the Fixed-Satellite Service.

25.222 Blanket Licensing provisions for Earth Station on Vessels (ESVs) receiving in the 10.95-11.2 GHz (space-to-Earth), 11.45-11.7 GHz (space-to-Earth), 11.7-12.2 GHz (space-to-Earth) frequency bands and transmitting in the 14.0-14.5 GHz (Earth-to-space) frequency band, operating with Geostationary Orbit (GSO) Satellites in the Fixed-Satellite Service.

25.226 Blanket licensing provisions for domestic, U.S. VMESs operating with GSO FSS space stations in the 10.95-11.2 GHz, 11.45-11.7 GHz, 11.7-12.2 GHz, and 14.0-14.5 GHz bands.

25.254 Special requirements for ancillary terrestrial components operating in the 1610-1626.5 MHz/2483-2500 MHz bands.

25.264 Requirements to facilitate reverse-band operation in the 17.3-17.8 GHz band of 17/24 GHz BSS and DBS Service space stations.

Subpart D—Technical Operations

25.271 Control of transmitting stations.

PART 27—MISCELLANEOUS WIRELESS COMMUNICATIONS SERVICES

Subpart B—Applications and Licenses

Brief Description: Part 27 contains service and licensing rules for Miscellaneous Wireless Communications Services. Subpart B establishes application and licensing requirements applicable to a number of spectrum bands, including among others, 700 MHz (698-746, 746-758, 775-788, and 805-806 MHz); Advanced Wireless Service (AWS) (1710-1755, 2110-2155, 1695-1710, 1755-1780, and 2155-2180 MHz); Broadband Radio Service (BRS) and Educational Broadband Service (EBS) (2150-2160 and 2496-2690 MHz); and Wireless Communications Service (WCS) (2305-2320 and 2345-2360 MHz).

Need: The revised rules specify license periods for BRS and EBS (27.13 (h)); construction requirements for 700 MHz, BRS and EBS, and WCS (27.14 (g)-(p)); and network access requirements for Block C in the 746-757 and 776-787 MHz bands (27.16). The need for these rules is ongoing.

Legal Basis: 47 U.S.C. 154, 301, 302, 303, 307, 309, and 332.

Section Number and Title:

27.13(h) License period.

27.14(g) through (p) Construction requirements.

27.16 Network access requirements for Block C in the 746-757 and 776-787 MHz bands.

Subpart C—Technical Standards

Brief Description: Part 27 contains service and licensing rules for Miscellaneous Wireless Communications Services. Subpart C contains technical standards applicable to a number of services and frequency bands.

Need: The additional rules provide for: (1) permissible power and antenna heights; (2) emission limitations; (3) Power flux density limits; (4) efficient deployment of and coexistence between WCS licensees and SDARS licensees; and (5) WCS licensees to take all practicable steps necessary to minimize the risk of harmful interference to AMT and DSN facilities. The need for these rules is on-going.

Legal Basis: 47 U.S.C. 154, 301, 302a, 303, 307, 309, 332, 336, 337, 1403, 1404, 1451, and 1452.

Section Number and Title:

27.50 Table 2, Table 3, Table 4—Permissible Power and Antenna Heights for Base and Fixed Stations in the 600 MHz, 698-757 MHz, 758-763 MHz, 776-787 MHz and 788-793 MHz Bands.

27.53(d), (e)(1) through (5) Emission limits.

27.55(c) Power strength limits.

27.72 Information sharing requirements.

27.73 WCS, AMT, and Goldstone coordination requirements.

Subpart M—Broadband Radio Service and Educational Broadband Service

Brief Description: Part 27 contains service and licensing rules for Miscellaneous Wireless Communications Services. Subpart M contains specific rules applicable to the Broadband Radio Service (BRS) and Educational Broadband Service (EBS) that operate in the 2500-2690 MHz band.

Need: The rules establish competitive bidding and designated entity rules for BRS and EBS. The need for these rules is ongoing.

Legal Basis: 47 U.S.C. 154, 301, 302, 303, 307, 309, and 332.

Section Number and Title:

27.1217 Competitive bidding procedures for the Broadband Radio Service and the Educational Broadband Service.

27.1218 Broadband Radio Service designated entity provisions.

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

Subpart A—General

Brief Description: Section 36.4 sets out streamlining procedures for processing petitions for waiver of the Commission's freeze of Local Exchange Carrier study area boundaries.

Need: These rules enable the Commission to more efficiently and effectively process petitions for waiver of the study area freeze.

Legal Basis: 47 U.S.C. 151, 152, 154(i), 201-206, 214, 218-220, 251, 252, 254, 256, 303(r), 332, 403, and 1302, and §§ 1.1 and 1.1421 of the Commission's rules, 47 CFR 1.1, 1.421.

Section Number and Title:

36.4 Streamlining procedures for processing petitions for waiver of study area boundaries.

PART 43—REPORTS OF COMMUNICATION COMMON CARRIERS, PROVIDERS OF INTERNATIONAL INTERCONNECTED VOICE OVER INTERNET PROTOCOL SERVICES AND CERTAIN AFFILIATES

Brief Description: Part 43 sets forth reporting requirements for common carriers. During the relevant review period, the Commission eliminated the following outdated and unnecessary reporting requirements related to international telecommunications traffic for which the burdens on U.S. international service providers now outweigh the benefits: (1) the quarterly traffic and revenue reports for large carriers; (2) the quarterly traffic and revenue reports for foreign-affiliated switched resale carriers; (3) the circuit-addition report for carriers that have been certified as resellers of private lines; (4) the telegraph toll division report for carriers that provide international telegraph service; and (5) the requirement for carriers holding international section 214 authorizations to file a traffic and revenue report or circuit-status report for traffic between the continental United States and off-shore U.S. points (e.g., Guam or the U.S. Virgin Islands) or between off-shore U.S. points, or to file separate reports for off-shore U.S. points.

Need: In modifying its rules, the Commission ensures that its data collections match its data needs while avoiding unnecessary or excessive burdens on entities subject to Commission authority.

Legal Basis: 47 U.S.C. 35-39, 154, 211, 219, and 220.

43.53 [Removed] Reports regarding division of international toll communication charges.

43.61(a) through (c) [Removed] Reports of international telecommunications traffic.

43.82(a) International circuit status report.

PART 51—INTERCONNECTION

Subpart H—Reciprocal Compensation for Transport and Termination of Telecommunications Traffic

Brief Description: The purpose of Subpart H is to establish rules governing the transition of intercarrier compensation from a calling-party's-network pays system to a default bill-and-keep methodology—and confirms that, after the transition, the exchange of telecommunications traffic between and among service providers will, by default, be governed by bill-and-keep arrangements.

Need: Theses rules establish the context for Subpart H and support the implementation of bill-and-keep as the ultimate uniform, national methodology for all telecommunications traffic exchanged with a Local Exchange Carrier.

Legal Basis: 47 U.S.C. 151-55, 157, 201-05, 207-09, 218, 220, 225-227, 251-254, 256, 271, 303(r), 332, and 1302, 47 U.S.C. 157 note, unless otherwise noted.

Section Number and Title:

51.700 Purpose of this subpart.

51.701(b)(3) Scope of transport and termination pricing rules.

Subpart J—Transitional Access Service Pricing

Brief Description: Sections 51.901 through 51.919 govern the transition of intercarrier compensation from a calling-party's-network pays system to a default bill-and-keep methodology for telecommunications traffic exchanged between telecommunications providers; that is interstate or intrastate exchange access, information access, or exchange services for such access, other than special access.

Need: Theses rules facilitate implementation of bill-and-keep as the national methodology for all telecommunications traffic exchanged between telecommunications providers; that is interstate or intrastate exchange access, information access, or exchange services for such access, other than special access.

Legal Basis: 47 U.S.C. 151, 152, 154(i), 201-206, 214, 218-220, 251, 252, 254, 256, 303(r), 332, 403, and 1302; 47 CFR 1.1, 1.421

Section Number and Title:

51.901 Purpose and scope of transitional access service pricing rules.

51.903 Definitions.

51.905 Implementation.

51.907 Transition of price cap carrier access charges.

51.909 Transition of rate-of-return carrier access charges.

51.911 Access reciprocal compensation rates for competitive LECs.

51.913 Transition for VoIP-PSTN traffic.

51.915 Recovery mechanism for price cap carriers.

51.917 Revenue recovery for Rate-of-Return Carriers.

51.919 Reporting and monitoring.

PART 52—NUMBERING

Subpart C—Number Portability

Brief Description: Section 52.23(h) establishes requirements for porting telephone numbers from a wireline carrier to a wireless carrier. Section 52.34 establishes obligations regarding local number porting to and from interconnected VoIP or internet-based TRS providers. Section 52.35 establishes porting intervals when transferring a customer's telephone number between two wireline providers; a wireline and wireless provider; or an interconnected Voice over internet Protocol (VoIP) provider and any other service provider. Section 52.36 specifies standard data fields that may be required from customers for simple port order processing.

Need: These rules facilitate prompt transfers of telephone numbers by standardizing the data to be exchanged when transferring a customer's telephone number between two wireline providers; a wireline and wireless provider; or an interconnected Voice over internet Protocol (VoIP) provider and any other service provider. The rules also mandate one-business day porting intervals to ensure that consumers are able to port their telephone numbers efficiently and to enhance competition for all communications services.

Legal Basis: 47 U.S.C. 151, 154(i)-(j), 251, and 303(r).

Section Number and Title:

52.23(h) Deployment of long-term database methods for number portability by LECs.

52.35 Porting intervals.

52.36 Standard data fields for simple port order processing.

PART 54—UNIVERSAL SERVICE

Subpart D—Universal Service Support for High Cost Areas

Brief Description: Section 54.302 establishes a per-line limit on universal service monthly support. The provisions in section 54.304 govern data submission requirements for, and payment of CAF ICC support to, eligible rate-of-return and price-cap carriers. Section 54.307(e) establishes the current methodology for determining Competitive Eligible Telecommunications Carrier high-cost support. Section 54.312 sets out rules for legacy high-cost support in price-cap territories before, during and after the Connect America Fund Phase II and Rural Digital Opportunity Fund Phase I auctions.

Need: These rule sections specify reporting and payment processes integral to the Commission's high-cost program.

Legal Basis: 47 U.S.C. 151, 152, 154(i), 201-206, 214, 218-220, 251, 252, 254, 256, 303I, 332, 403, and 1302.

Section Number and Title:

54.302 Monthly per-line limit on universal service support.

54.304 Administration of Connect America Fund Intercarrier Compensation Replacement.

54.307(e) Support to a competitive eligible telecommunications carrier.

54.312 Connect America Fund for Price Cap Territories—Phase I.

Subpart E—Universal Service Support for Low-Income Consumers

Brief Description: Section 54.404 details requirements and processes applicable to the National Lifeline Accountability Database, which allows service providers to enroll Lifeline eligible consumers in the program and manage their subscribers. Section 54.405(e) details the process for Eligible Telecommunications Carriers to de-enroll a Lifeline subscriber where there is a reasonable basis for the ETC to believe that the subscriber no longer meets the criteria to be considered a qualifying low-income consumer for purposes of the Lifeline program. Section 54.414 provides that only ETCs that receive high-cost support may receive Link Up, specifies requirements for determining a resident of rural Tribal lands' initial eligibility for Link Up, and establishes recordkeeping requirements that must be met for ETCs to receive reimbursement for providing Tribal Link Up. Section 54.419 provides that electronic signatures have the same legal effect as written signatures for purposes of Subpart E. Section 54.420 sets out requirements for obtaining third-party biennial audits of their compliance with subpart E requirements. Section 54.422 establishes annual reporting requirements applicable to ETC receiving low-income support.

Need: These rules comprise key elements of the Lifeline and Tribal Link Up programs, including provisions for verification of eligibility for the programs and auditing and reporting requirements to support Commission oversight.

Legal Basis: 47 U.S.C. 151, 152, 154(i), 201-206, 214, 218-220, 251, 252, 254, 256, 303(r), 332, 403, and 1302.

Section Number and Title:

54.404 The National Lifeline Accountability Database.

54.405(e) Carrier obligation to offer Lifeline.

54.414 Reimbursement for Tribal Link Up.

54.419 Validity of electronic signatures.

54.420 Low income program audits.

54.422 Annual reporting for eligible telecommunications carriers that receive. low-income support.

Subpart F—Universal Service for Rural Health Care Program

Brief Description: These rules establish the framework for the Healthcare Connect Fund of the Rural Health Care Program, including the criteria for what recipients, services, and equipment are deemed eligible in the program, the requirement that health care providers contribute to the total cost of eligible expenses, and requirements for data collection and reporting.

Need: These rules facilitate the administration of the Health Care Connect Fund, which provides support for high-capacity broadband connectivity to eligible health care providers and encourages the formation of State and regional broadband health care provider networks.

Legal Basis: 47 U.S.C. 151, 152, 154(i)-(j), 201(b), and 254.

Section Number and Title:

54.600 Terms and definitions.

54.601(b) Health care provider eligibility.

54.602 Health care support mechanism.

54.607 (formerly 54.630) Eligible recipients.

54.609 (formerly 54.631) Designation of consortium leader.

54.610 (formerly 54.632) Letters of agency (LOA).

54.611 (formerly 54.633) Health care provider contribution.

54.612 (formerly 54.634) Eligible services.

54.613 (formerly 54.635) Eligible equipment.

54.614 (formerly 54.636) Eligible participant-constructed and owned network facilities for consortium applicants.

54.615 (formerly 54.637) Off-site data centers and off-site administrative offices.

54.616 (formerly 54.638) Upfront payments.

54.617 (formerly 54.639) Ineligible expenses.

54.618 (formerly 54.640) Data collection and reporting.

54.622 (formerly 54.642) Competitive bidding requirement and exemptions.

Subpart L—Mobility Fund and 5G Fund

Brief Description: Sections 54.1001 through 54.1010 establish the regulatory framework for the Mobility Fund—Phase I, the first universal service mechanism dedicated to ensuring availability of mobile broadband networks in areas where a private-sector business case is lacking. These rules established necessary elements of the Mobility Fund—Phase I, including the geographic areas eligible for support, the application process, public interest obligations, and record retention and reporting requirements.

Need: These rules were necessary to facilitate the administration of the Mobility Fund—Phase I, which provided immediate one-time support to accelerate the deployment of mobile broadband and voice service to unserved areas.

Legal Basis: 47 U.S.C. 151, 152, 154(i), 201-206, 214, 218-220, 251, 252, 254, 256, 303(r), 332, 403, and 1302.

Section Number and Title:

54.1001 Mobility Fund—Phase I.

54.1002 Geographic areas eligible for support.

54.1003 Provider eligibility.

54.1004 Service to Tribal Lands.

54.1005 Application process.

54.1006 Public interest obligations.

54.1007 Letter of credit.

54.1008 Mobility Fund Phase I disbursements.

54.1009 Annual reports.

54.1010 Record retention for Mobility Fund Phase I.

PART 61—TARIFFS

Subpart B—Rules for Electronic Filing

Brief Description: These rules require electronic tariff filing, using the Commission's Electronic Tariff Filing System, for all tariff filers for their tariffs, tariff revisions, Base Documents, and associated documents, including applications for special permission, and petitions and replies to petitions against tariff filings. Sections 61.13 and 61.51 define the scope of electronic filing requirements to apply to all issuing carries that file tariffs. Sections 61.14-61.17 establish procedures applicable to tariff filings to which electronic filing requirements apply.

Need: By requiring all tariff filers to file electronically, these rules create a more open, transparent, and efficient flow of information to the public, and benefit the public, carriers, and the Commission by creating a uniform system providing online access to all carrier tariffs filed with the Commission.

Legal Basis: 47 U.S.C. 151, 154(i), 201-205, and 226(h)(1)(A).

Section Number and Title:

61.13 Scope.

61.14 Method of filing publications.

61.15 Letters of transmittal and cover letters.

61.16 Base documents.

61.17 Applications for special permission.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

Brief Description: Part 63 sets forth, among other things, the processes, requirements, and conditions applicable to international section 214 applications and authorizations to provide global facilities-based and global resale services. During the relevant review period, the Commission modified the rules and procedures to, among other things, reduce the notice period for the discontinuance of international services, clarified the rules governing the provision of international roaming service by U.S. Commercial Mobile Radio Service (CMRS) carriers, and made changes to the de jure control of an international section 214 authorization holder and the treatment of asset acquisitions. The Commission also eliminated the requirement to submit circuit-additions report.

Need: These rules provide the applicable framework and establish the general applications, procedures, conditions, and restrictions for the provision of U.S.-international telecommunications services.

Legal Basis: 47 U.S.C. 151, 154(i), 154(j), 160, 201-205, 214, 218, 403, and 571, unless otherwise noted.

Section Number and Title:

63.18(e)(2) introductory text Contents of applications for international common carriers.

63.19(a)(1) and (2) Special procedures for discontinuances of international services.

63.23(c); (e) [Removed]; (f) redesignated as new (e) Resale-based international common carriers.

63.24(b) note; (c) Assignments and transfers of control.

Brief Description: Sections 63.60(a), (b)(3), (e) and (g) extend to providers of interconnected VoIP service the discontinuance obligations that apply to domestic non-dominant telecommunications carriers under section 214 of the Communications Act.

Need: These rule sections protect consumers of interconnected VoIP service from abrupt discontinuance, reduction, or impairment of their service without notice.

Legal Basis: 47 U.S.C. 151, 154(i)-(j), 214, and 303(r).

Section Number and Title:

63.60(a), (b)(3), (e), (g) Definitions.

PART 64—MISCELLANEOUS RULES RELATING TO COMMON CARRIERS

Subpart F—Telecommunications Relay Services and Related Customer Premises Equipment for Persons With Disabilities

Brief Description: Part 64, Subpart F implements section 225 of the Communications Act of 1934, as amended. Section 225 codifies Title IV of the Americans with Disabilities Act of 1990 (ADA) which requires that the Commission ensure telecommunications relay services (TRS) are available, “to the extent possible and in the most efficient manner,” to individuals with hearing or speech disabilities in the United States. Section 225 defines “TRS” as telephone transmission services that provide the ability for an individual who is deaf, hard of hearing, deaf-blind, or who has a speech disability to engage in communication by wire or radio with one or more individuals, in a manner functionally equivalent to the ability of a hearing individual who does not have a speech disability to communicate using voice communication services by wire or radio. The rules provide minimum functional, operational, and technical standards for TRS programs. The rules give states a significant role in ensuring the availability of TRS by treating carriers as compliant with their statutory obligations if they operate in a state that has a relay program certified as compliant by the Commission. The rules also establish a cost recovery and a carrier contribution mechanism (TRS Fund) for the provision of interstate TRS and require states to establish cost recovery mechanisms for the provision of intrastate TRS. In 2007 and 2008, the rules were amended by adding paragraphs (a)(3), (a)(9) (which has been redesignated as (a)(10)), (a)(11) (which has been redesignated as (a)(13)), (a)(12) (which has been redesignated as (a)(14)), (a)(13) (which has been redesignated as (a)(17)), (a)(15) (which has been redesignated as (a)(21)), (a)(17) (which has been redesignated as (a)(22)), (a)(18) (which has been redesignated as (a)(22)), (a)(24) (which has been redesignated as (a)(27)), (a)(25) (which has been redesignated as (a)(28)), and (b) to § 64.601 defining terms and extending the TRS requirements contained in § 64.601 to providers of interconnected VoIP services. Section 64.605 (which has been redesignated as § 9.14) was also added to ensure that emergency calls placed by internet-based TRS users will be routed directly and automatically to the appropriate emergency services authorities by internet-based TRS providers. Section 64.611 was added to (1) allow the internet-based TRS provider to take steps to associate the internet-based TRS user's telephone number with their IP address to allow for the routing and completion of calls; (2) to facilitate the provision of 911 service; and (3) to facilitate the implementation of appropriate network security measures. Furthermore, section 64.613 was added in order to establish a uniform ten-digit numbering system for internet-based forms of TRS: (1) a means for NANP numbers to be assigned to internet-based TRS users and (2) a central numbering directory mechanism that maps each NANP telephone number assigned to an internet-based TRS user to the appropriate internet address.

Section 64.610 of Part 64, Subpart F implements the pilot National Deaf-Blind Equipment Distribution Program (NDBEDP). The NDBEDP was established to enable low-income individuals who are deafblind to access Twenty-First Century communications services. The two-year pilot program, which was extended for three additional years, helped ensure that qualified individuals who are deafblind have specialized customer premises equipment designed to access the internet and advanced communications. Section 64.611(e) prohibits Video Relay Service and IP Relay providers from assigning or issuing toll-free numbers to their customers and requires that, upon request of a customer, VRS and IP Relay providers transfer any already assigned toll-free numbers to a toll-free service provider or Responsible Organization (RespOrg).

Need: The rules implementing section 225 are intended to facilitate communication by persons with hearing or speech disabilities in order to give full effect to the accessibility policies embodied in section 225, and to ensure that individuals with hearing or speech disabilities receive the same quality of service as hearing individuals when they make TRS calls, regardless of where their calls originate or terminate. Further, the rules are designed to further the TRS functional equivalency mandate by ensuring that internet-based TRS users can be reached by voice telephone users in the same way that voice telephone users are called. These rules also are intended to ensure that emergency calls placed by internet-based TRS users will be routed directly and automatically to the appropriate emergency services authorities by internet-based TRS providers.

Section 64.610 implemented a provision of the Twenty-First Century Communications and Video Accessibility Act of 2010 (CVAA), which allocated $10 million annually from the Interstate Telecommunications Relay Service (TRS) Fund for this nationwide equipment distribution effort. These rules were adopted to govern a pilot program to support the distribution of such specialized CPE and the provision of associated services. With the establishment of a permanent NDBEDP in 2016, 47 CFR 64.6201-64.6219, the pilot program ended, and final accounting was completed. As a result, section 64.610 is no longer needed and may be repealed. Section 64.611(e) promotes the use of geographically appropriate numbers and provide iTRS customers with access functionally equivalent to that enjoyed by hearing customers.

Legal Basis: 47 U.S.C. 151, 152, 225, and 620.

Section Number and Title:

64.601(a)(3) American Sign Language (ASL).

64.601(a)(9) [redesignated as 64.601(a)(10)] Common carrier or carrier.

64.601(a)(11) [redesignated as 64.601(a)(13)] Default provider.

64.601(a)(12) [redesignated as 64.601(a)(14)] Default provider change order.

64.601(a)(13) [redesignated as 64.601(a)(17)] Hearing carry over (HCO).

64.601(a)(15) [redesignated as 64.601(a)(22)] Internet Protocol Captioned Telephone Service (IP CTS).

64.601(a)(17) [redesignated as 64.601(a)(24)] IP Relay access technology.

64.601(a)(18) [redesignated as 64.601(a)(25)] iTRS access technology.

64.601(a)(24) [redesignated as 64.601(a)(30)] Original default provider.

64.601(a)(25) [redesignated as 64.601(a)(31)] Point-to-point video call.

64.601(b) Definitions and provisions of general applicability.

64.603(a) [cross-reference updated] Provision of Services.

64.604(a)(4) [redesignated as 47 CFR 9.14(a)], (a)(6) and (7), (c)(5)(ii), (c)(5)(iii)(C) redesignated as (c)(5)(iii)(D)], (c)(5)(iii)(F)(1) [cross-references updated], (c)(5)(iii)(F)(4) [cross-references updated], (c)(5)(iii)(L) through (N), (c)(6)(i) [cross-references updated], (c)(6)(iii)(B) [cross-references updated] Mandatory minimum standards.

64.605 [redesignated as 47 CFR 9.14(b)] Additional Operational Standards Applicable to internet-Based TRS Providers; Emergency Calling Requirements.

64.606 [renumbered; previously 64.605] Internet-based TRS provider and TRS program Certification.

64.607 [renumbered; previously 64.606] Furnishing related customer premises Equipment.

64.608 [renumbered; previously 64.607] Provision of hearing aid compatible telephones by exchange carriers.

64.609 [renumbered; previously 64.608; cross-references updated] Enforcement of related consumer premises equipment rules.

64.610 [superseded by 64.6201 through 64.6219] Establishment of a National Deaf-Blind Equipment Distribution Program.

64.611 internet-based TRS registration.

64.613 Numbering directory for internet-based TRS users.

Subpart L—Restrictions on Telemarketing, Telephone Solicitation, and Facsimile Advertising

Brief Description: In compliance with the requirements of the Junk Fax Prevention Act, the Commission amends § 64.1200(a)(3) of the Commission's rules to expressly recognize an EBR exemption from the prohibition on sending unsolicited facsimile advertisements. (The Commission correspondingly withdraws § 64.1200(a)(3)(i) of its rules from its existing rules, as facsimile senders will now be permitted to send facsimile advertisements to recipients with whom they have an EBR without first securing the recipient's written permission.)

Need: Congress mandated that the Commission issue regulations implementing the Junk Fax Prevention Act of 2005. As set forth in the statute, the Commission: (1) codified an established business relationship (EBR) exemption to the prohibition on sending unsolicited facsimile advertisements; (2) provided a definition of an EBR to be used in the context of unsolicited facsimile advertisements that is not limited in duration; (3) required the sender of a facsimile advertisement to provide specified notice and contact information on the facsimile that allows recipients to “opt-out” of any future facsimile transmissions from the sender; and (4) specified the circumstances under which a request to “opt-out” complies with the Junk Fax Prevention Act of 2005.

Legal Basis: 47 U.S.C. 154, 254(k) secs. 403(b)(2)(B), (c), Pub. L. 104-104, 110 Stat. 56. Interpret or apply 47 U.S.C. 201, 218, 222, 225, 226, 228, and 254(k) unless otherwise noted.

Section Number and Title(s):

64.1200(a), (f) revised Delivery Restrictions.

Brief Description: In a Report and Order, Rules and Regulations Implementing the Telephone Consumer Protection Act (TCPA) of 1991, Do-Not-Call Registry, the Commission amends its rules under the TCPA to require sellers and/or telemarketers to honor registrations with the National Do-Not-Call Registry so that registrations will not automatically expire based on the current five-year registration period. Consistent with the Do Not Call Improvement Act of 2007 (DNC Act), the Commission extends this requirement indefinitely to minimize the inconvenience to consumers of having to re-register their preferences not to receive telemarketing calls and to further the underlying goal of the National Registry to protect consumer privacy rights. The Commission concludes that eliminating the need for consumers to re-register their numbers will enhance consumer privacy protections and benefit the Federal government in administering the National Registry. Making registrations permanent adequately balances the need to maintain a high level of accuracy in the National Registry with the desire to have a simple and effective means to limit unwanted telemarketing calls.

Need: The DNC Report and Order amends the Commission's rules so that registrations with the National Do-Not-Call Registry will not expire after a period of five years, consistent with the DNC Act and FTC policy. This action will benefit consumers, who will no longer be required to re-register every five years, thereby reducing any burdens on consumers in terms of the time and effort required to register and the need to remember when to re-register.

Legal Basis: 47 U.S.C. 154, 254(k); secs. 403(b)(2)(B), (c), Pub. L. 104-104, 110 Stat. 56. Interpret or apply 47 U.S.C. 201, 218, 222, 225, 226, 228, and 254 (k), unless otherwise noted.

Section Number and Titles:

64.1200(c)(2) introductory text revised Delivery Restrictions.

Brief Description: In this Report and Order, Rules and Regulations Implementing the Telephone Consumer Protection Act of 1991, the Commission requires prior express written consent for autodialed or prerecorded telemarketing calls to wireless numbers and for prerecorded telemarketing calls to residential lines. Second, the Commission eliminates the “established business relationship” exemption as it previously applied to prerecorded telemarketing calls to residential lines. Third, the Commission requires telemarketers to implement an automated, interactive opt-out mechanism for autodialed or prerecorded telemarketing calls to wireless numbers and for prerecorded telemarketing calls to residential lines, which would allow a consumer to opt out of receiving additional calls immediately during a telemarketing robocall. Fourth, the Commission requires that the permissible three percent call abandonment rate be calculated for each calling campaign, so that telemarketers cannot shift more abandoned calls to certain campaigns, as is possible if calculation is made across multiple calling campaigns. Finally, the Commission adopts an exemption to its implementing rules under the Telephone Consumer Protection Act (TCPA) for prerecorded health care-related calls to residential lines, which are already regulated by the Federal Health Insurance Portability and Accountability Act.

Need: The Commission adopts prior express written consent for autodialed or prerecorded telemarketing calls to wireless numbers and for prerecorded telemarketing calls to residential lines only. Limiting the written consent requirement to telemarketing calls significantly reduces the compliance burden for all entities, including small entities. In adopting the written consent requirement for autodialed or prerecorded telemarketing calls to wireless numbers and for prerecorded telemarketing calls to residential lines, the Commission also concluded that consent obtained pursuant to the E-SIGN Act will satisfy the requirement of its revised rule, including permission obtained via an email, website form, text message, telephone keypress, or voice recording. Accepting consent pursuant to the E-SIGN Act relieves all businesses, including small entities, from the economic impact of generating and retaining a paper document to evidence their compliance.

Legal Basis: 47 U.S.C. 154, 254(k); 403(b)(2)(B), (c), Pub. L. 104-104, 110 Stat. 56. Interpret or apply 47 U.S.C. 201, 218, 222, 225, 226, 227, 228, 254(k), 616, and 620 unless otherwise noted.

Section Number and Titles:

64.1200(a) through (c), (f) revised Delivery Restrictions. [note that the 64.1200(a)(4)(iv) opt out requirement has been removed if permission/consent is for the fax].

Subpart P—Calling Party Telephone Number; Privacy

Brief Description: These rule sections implement the Truth in Caller ID Act of 2009,⁵ and prohibit any person or entity from knowingly spoofing caller identification information with the intent to defraud, cause harm, or wrongfully obtain anything of value. Sections 1.80(a)(4), (b)(3) and (c) establish forfeiture provisions for violations of the Truth in Caller ID Act or the Commission's rules under the Truth in Caller ID Act. Sections 64.1600(c), (d), (g) and (h) set out definitions used in connection with the Truth in Caller ID rules. Section 64.1604 establishes the rule against transmission of inaccurate or misleading caller identification information and exceptions to the rule.

⁵ The President signed the Truth in Caller ID Act into law on December 22, 2010. Truth in Caller ID Act of 2009, Public Law 111-331, codified at 47 U.S.C. 227(e).

Need: These rule sections carry out the Commission's statutory obligation to implement the Truth in Caller ID Act.

Legal Basis: Section 2 of the Truth in Caller ID Act of 2009, Pub. L. 11-331; 47 U.S.C. 151, 154(i), 154(j), 227, and 303 (r).

Section Number and Title:

64.1600(c), (d), (g), (h) Definitions.

64.1604 Prohibition on transmission of inaccurate or misleading caller identification information.

Subpart U—Customer Proprietary Network Information

Brief Description: These rules implement increased safeguards to the Commission's customer proprietary network information (CPNI) rule to protect customers' CPNI against unauthorized access and disclosure. Sections 64.2003(a), (b), (d), (m), (q), and (r) set out definitions of key terms used in the Commission's CPNI rules. Section 64.2003(k) extends the application of the Commission's CPNI rules to providers of interconnected VoIP service. Section 64.2009(e) requires carriers to file with the Commission an annual certification, including an explanation of any actions taken against data brokers and a summary of all consumer complaints received in the previous year regarding the unauthorized release of CPNI. Sections 64.2010(b), (c) and (d) restrict the release of call detail information in customer-initiated telephone contacts, requires mandatory password protection for online account access, and permits carriers to provide CPNI to customers based on in-store contact with a valid photo ID, respectively.⁶ Section 64.2011 establishes a notification process for both law enforcement and customers in the event of a CPNI breach.⁷

⁶ The Commission proposed to amend § 64.2010 to require wireless carriers to adopt secure methods of authenticating a customer before redirecting a customer's phone number to a new device and to immediately notify customers whenever a subscriber identity module (SIM) change request is made on a customers' accounts, and sought comment on other ways to protect customers from fraud related to SIM changes. Protecting Customers from SIM Swap and Port-Out Fraud, WC Docket No. 21-341, Notice of Proposed Rulemaking, 36 FCC Rcd 14120 (2021).

⁷ The Commission has proposed updates to § 64.2011 addressing telecommunications carriers' breach notification duties to ensure that affected customers, the Commission, and other Federal law enforcement agencies receive the information they need to mitigate and prevent harm due to a breach and take action to deter future breaches. Data Breach Reporting Requirements, WC Docket No. 22-21, Notice of Proposed Rulemaking, FCC 22-102 (2023).

Need: These rules limit pretexters' ability to obtain unauthorized access to personal customer information from carriers the Commission regulates.

Legal Basis: 47 U.S.C. 151, 154(i)-(j), 222, and 303(r).

Section Number and Title:

64.2003(a), (b), (d), (m), (q), (r) Definitions.

64.2005(c)(3) Use of customer proprietary network information without customer approval.

64.2009(e) Safeguards required for use of customer proprietary network information.

64.2010 Safeguards on the disclosure of customer proprietary network information.

64.2011 Notification of customer proprietary network information security breaches.

PART 69—ACCESS CHARGES

Subpart A—General

Brief Description: These rules implement measures to address the artificial stimulation of interstate switched access charges by requiring carriers, or groups of carriers, that engage in access stimulation to refile their tariffs to reflect lower rates for these services. Sections 69.3(e)(12)(i)-(iii) require local exchange carriers, or groups that include at least one local exchange carrier engaged in access stimulation, to: (1) file their own access tariffs, (2) withdraw from interstate access tariffs issued by the National Exchange Carrier Association, and (3) give notice of their intent to withdraw from the National Exchange Carrier Association tariffs within 45 days of beginning access stimulation. Section 69.1(d) provides that the provisions of Part 51—Interconnection, subparts H (Reciprocal Compensation for Transport and Termination of Telecommunications Traffic) and J (Transitional Access Service Pricing) control in the event of a conflict between those provisions and the provisions of part 69.

Need: These rules help to curtail access stimulation, which imposes undue costs on consumers and inefficiently diverts capital away from more productive uses such as broadband deployment.

Legal Basis: 47 U.S.C. 154, 201, 202, 203, 205, 218, 220, 254, and 403.

Section Number and Title:

69.1(d) Application of access charges.

69.3(e)(12)(i) through (iii) Filing of access service tariffs.

PART 73—RADIO BROADCAST SERVICES

Subpart A—AM Broadcast Stations

Brief Description: These rules permit the use of computer modeling techniques to verify that directional AM antennas perform as authorized and reduce the time and expense associated with the license application for a directional AM station. They were adopted collectively by the Commission. (An Inquiry Into the Commission's Policies and Rules Regarding AM Radio Service Directional Antenna Performance Verification, Second Report and Order and Second Further Notice of Proposed Rulemaking, FCC 08-228).

Need: These rules are necessary because they are consistent with the Commission's streamlining initiatives, reduce the regulatory burden upon directional AM stations to the extent possible while maintaining the integrity of the service.

Legal Basis: 47 U.S.C. 154, 303, 334, 336, and 339.

Section Number and Title:

73.61(a), (b) AM directional antenna field strength measurements.

Brief Description: This rule addresses corrective actions an AM broadcast station licensee must take when encountering certain difficulties in the operation of a station's AM directional antenna. (Amendment of the Commission's Rules Regarding AM Directional Antennas, Report and Order, FCC 07-97)

Need: These rules provide AM licensees with explicit guidance on operating AM broadcast stations with directional antennas.

Legal Basis: 47 U.S.C. 154, 303, 309, 310, 334, and 336.

Section Number and Title:

73.62 Directional antenna system operation and tolerances.

Brief Description: These rules permit the use of computer modeling techniques to verify that directional AM antennas perform as authorized and reduce the time and expense associated with the license application for a directional AM station. They were adopted collectively by the Commission. (An Inquiry Into the Commission's Policies and Rules Regarding AM Radio Service Directional Antenna Performance Verification, Second Report and Order and Second Further Notice of Proposed Rulemaking, FCC 08-228).

Need: These rules are necessary because they are consistent with the Commission's streamlining initiatives, reduce the regulatory burden upon directional AM stations to the extent possible while maintaining the integrity of the service.

Legal Basis: 47 U.S.C. 154, 303, 334, 336, and 339.

Section Number and Title:

73.68(a) revised, (b) Sampling systems for antenna monitors.

Brief Description: These rules permit the use of computer modeling techniques to verify that directional AM antennas perform as authorized and reduce the time and expense associated with the license application for a directional AM station. They were adopted collectively by the Commission. (An Inquiry Into the Commission's Policies and Rules Regarding AM Radio Service Directional Antenna Performance Verification, Second Report and Order and Second Further Notice of Proposed Rulemaking, FCC 08-228).

Need: These rules are necessary because they are consistent with the Commission's streamlining initiatives, reduce the regulatory burden upon directional AM stations to the extent possible while maintaining the integrity of the service.

Legal Basis: 47 U.S.C. 154, 303, 334, 336, and 339.

Section Number and Title:

73.151 introductory text and (c) Field strength measurements to establish performance of directional antennas.

73.155 Directional antenna performance recertification.

Subpart B—FM Broadcast Stations

Brief Description: This rule implements procedures for allocating new FM channels and modifying the communities of license of existing radio stations. (Revision of Procedures Governing Amendments to FM Table of Allotments and Changes of Community of License in the Radio Broadcast Services, Second Report and Order, FCC 06-163).

Need: These rules are necessary to streamline the process of allocating new FM channels, modifying the communities of existing radio stations, and to reduce backlogs in proceedings to amend the FM Table of Allotments.

Legal Basis: 47 U.S.C. 154, 303, 334, and 336.

Section Number and Title:

73.202 Table of Allotments.

73.203 Availability of Channels.

Subpart C—Digital Audio Broadcasting

Brief Description: These rules foster the development of a vibrant terrestrial digital radio service for the public and ensures that radio stations are able to successfully implement digital audio broadcasting. (Digital Audio Broadcasting Systems and Their Impact on the Terrestrial Radio Broadcast Service, Second Report and Order, FCC 07-33).

Need: These rules are necessary for the operation of a terrestrial digital radio service.

Legal Basis: 47 U.S.C. 154, 303, 309, 310, 334, and 336.

Section Number and Title:

73.404 Interim hybrid IOBC DAB operation.

Subpart E—Television Broadcast Stations

Brief Description: These rules provide procedures necessary to ensure that broadcasters were able to timely complete their transitions from analog to digital service and are able to continue to provide digital television service. They were adopted collectively by the Commission. (Third Periodic Review of the Commission's Rules and Policies Affecting the Conversion to Digital Television, Report and Order, FCC 07-228).

Need: These rules ensured that full power broadcasters met their statutory obligation and deadline to convert to digital technology and viewers did not and do not lose service.

Legal Basis: 47 U.S.C. 154, 303, 334, and 336.

Section Number and Title:

73.616 Post-transition DTV station interference protection.

73.622(f)(4) Digital television table of allotments.

73.623(a) DTV applications and changes to DTV allotments.

73.624(d)(1) introductory text, (d)(1)(v) through (vii), (d)(3), (g) introductory text, (g)(2) Digital television broadcast stations.

Brief Description: This rule extends the duration of certain licenses and construction permits, to conform to the new, June 12, 2009, digital television transition date. (Implementation of the DTV Delay Act, Second Report and Order, FCC 09-11).

Need: These rules modify the tolling standard to extend to construction deadline if a station is unable to meet the digital television transition deadline due to international coordination with Mexico and Canada.

Legal Basis: 47 U.S.C. 154, 303, 334, and 336.

Section Number and Title:

73.624(d)(1)(vii), (3)(ii) and (iii) Digital television broadcast stations.

Brief Description: This rule establishes an annual fee for the provision of certain ancillary and supplementary service provided by low power television stations converting to digital operations. (Digital Low Power Television, Television Translator, and Television Booster Stations and To Amend Rules for Digital Class A Television Stations, Second Report and Order, FCC 11-110).

Need: This rule is necessary to fulfill the requirements of section 336 of the Communications Act of 1934 that the public recover a portion of the value of the public spectrum resource made available for commercial use, as well as to avoid unjust enrichment of broadcasters that use that resource.

Legal Basis: 47 U.S.C. 154, 303, 334, and 336.

Section Number and Title:

73.624(g) Digital television broadcast stations.

Brief Description: These rules permit the use of distributed transmission system technologies in the digital television service. The rules allow DTV station licensees and permittees to use DTS technologies where feasible in place of a single transmitter to provide service as authorized. (Digital Television Distributed Transmission System Technologies, Report and Order, FCC 08-256).

Need: These rules will help improve some DTV stations' ability to serve more of their viewers within their service areas. For example, we expect that DTS will be especially useful in mountainous areas where single transmitters have been unable to reach viewers in valleys or those blocked by elevated terrain.

Legal Basis: 47 U.S.C. 154, 303, 334, and 336.

Section Number and Title:

73.626 DTV distributed transmission systems.

Brief Description: These rules modernize rules concerning children's programming to include restrictions on displaying internet website addresses. They were adopted collectively by the Commission to modernize its rules implementing the Act in light of the Digital TV Transition. (In the Matter of Children's Television Obligations Of Digital Television Broadcasters, Second Order on Reconsideration and Second Report and Order, FCC 06-143).

Need: These rules are necessary to ensure that the Commission's rules continue to respond the Congressional mandate in the Children's Television Act by protecting children from advertising directing them to internet sites.

Legal Basis: 47 U.S.C. 154, 303, 334, and 336.

Section Number and Title:

73.670(b) through (d), Note 1 Commercial limits in children's programs.

Brief Description: These rules provide procedures necessary to ensure that broadcasters were able to timely complete their transitions from analog to digital service and are able to continue to provide digital television service. They were adopted collectively by the Commission. (Third Periodic Review of the Commission's Rules and Policies Affecting the Conversion to Digital Television, Report and Order, FCC 07-228).

Need: These rules ensured that full power broadcasters met their statutory obligation and deadline to convert to digital technology and viewers did not and do not lose service.

Legal Basis: 47 U.S.C. 154, 303, 334, and 336.

Section Number and Title:

73.682(d) TV transmission standards.

Brief Description: This rule makes mandatory a technical standard, developed by an industry standards development body, that is designed to prevent digital television commercial advertisements from being transmitted at louder volumes than the program material they accompany. (Implementation of the Commercial Advertisement Loudness Mitigation (CALM) Act, Report and Order, FCC 11-182).

Need: This rule is necessary to implement the Commercial Advertisement Loudness Mitigation Act to protect viewers from excessively loud commercials.

Legal Basis: 47 U.S.C. 154, 303, 334, and 336.

Section Number and Title:

73.682(e), Note TV Transmission standards.

Brief Description: This rule adopts a predictive model for determining the ability of individual locations to receive an over-the-air digital television broadcast signal at the intensity level needed for service through the use of an antenna. (Satellite Television Extension and Localism Act of 2010 and Satellite Home Viewer Extension and Reauthorization Act of 2004, Report and Order and Further Notice of Proposed Rulemaking, FCC 10-194).

Need: This rule is necessary to fulfill the requirement of the Satellite Television Extension and Localism Act of 2010.

Legal Basis: 47 U.S.C. 154, 303, 334, 336, and 339.

Section Number and Title:

73.683(d), (e) Field strength contours and presumptive determination of field strength at individual locations.

Brief Description: This rule establishes measurement procedures for determining the strength of a digital broadcast television (DTV) signal at any specific location. These procedures are used for determining whether households are eligible to receive distant DTV network signals retransmitted by satellite carriers. (Digital Television Signals Pursuant to the Satellite Home Viewer Extension and Reauthorization Act of 2004, Report and Order, FCC 10-195).

Need: These rules are necessary to fulfill the requirement of the Satellite Television Extension and Localism Act of 2010.

Legal Basis: 47 U.S.C. 154, 303, 334, 336, and 339.

Section Number and Title:

73.684(d), (e) Field strength measurements.

Brief Description: Section 73.686 sets forth the procedures for measuring the field strength of television broadcast stations. Paragraph (d) of this section governs the measurement of NTSC television signal intensity while paragraph (e) of this section governs the measurement of digital television (DTV) signal intensity.

Need: These rules specify how field strength data must be collected for different types of television broadcast stations. This data is then used for propagation analysis. Accurate field strength measurement and propagation analysis are necessary to ensure that television broadcast stations operate as intended and do not cause harmful interference.

Legal Basis: 47 U.S.C. 154, 303, 334, and 336.

Section Number and Title:

73.686(d), (e) Field strength measurements.

Subpart G—Low Power FM Broadcast Stations (LPFM)

Brief Description: These rules provide procedures and guidance to promote the operation and expansion of the low power FM (LPFM) service through its technical and ownership rules. (Creation of a Low Power Radio Service, Third Report and Order, FCC 07-204).

Need: These rules help ensure the viability and success of the LPFM service.

Legal Basis: 47 U.S.C. 154, 303, 334, 336, and 339.

Section Number and Title:

73.809(a), (b) Inference protection to full service FM stations.

73.853(b)(1) through (3) Licensing requirements and service.

73.865 Assignment and transfer of LPFM licenses.

73.870(f) Processing of LPFM broadcast station applications.

73.871(c)(2) through (4) Amendment of LPFM broadcast station applications.

73.872(c)(1) through (3) Selection procedure for mutually exclusive LPFM applications.

Subpart H—Rules Applicable to All Broadcast Stations

Brief Description: This rule provides the required content that must be provided by a station as part of a broadcaster's official station identification. (Digital Audio Broadcasting Systems and Their Impact on the Terrestrial Radio Broadcast Service, Second Report and Order, First Order on Reconsideration, and Second Further Notice of Proposed Rulemaking, FCC 07-33).

Need: These rules are necessary to ensure broadcast stations, including digital radio and television stations, properly identify themselves to the public.

Legal Basis: 47 U.S.C. 154 and 303.

Section Number and Title:

73.1201(b) Station identification.

Brief Description: These rules require that television station public inspection files be made available in an online public file that is hosted on the Commission's website. (Standardized and Enhanced Disclosure Requirements for Television Broadcast Licensee Public Interest Obligations; Extension of the Filing Requirement for Children's Television Programming Report (FCC Form 398), Second Report and Order, FCC 12-44).

Need: These rules are necessary to provide guidance as to what documents must be maintained in a television station's online public file.

Legal Basis: 47 U.S.C. 154, 303, 307, and 554.

Section Number and Title:

73.1212(e) Sponsorship identification; list retention; related requirements.

Brief Description: This rule addresses transmission system operations for broadcast television and radio stations. (Amendment of the Commission's Rules Regarding AM Directional Antennas, Report and Order, FCC 07-97)

Need: These rules are necessary to ensure licenses maintain and operate a broadcast station in a manner that is consistent with the Commission's rules.

Legal Basis: 47 U.S.C. 154, 303, 309, 310, 334, and 336.

Section Number and Title:

73.1350 (b)(2), (d), and (e) Transmission System Operation.

Brief Description: These rules provide procedures for processing and allocating new FM channels, modifying the communities of license of existing radio stations, and amending the FM Table of allotments. They were adopted collectively by the Commission. (Revision of Procedures Governing Amendments to FM Table of Allotments and Changes of Community of License in the Radio Broadcast Services, Report and Order, FCC 06-163).

Need: These rules are necessary to provide streamlined processes for allocating new FM channels, modifying the communities of license of existing radio stations, and amending the FM Table of allotments.

Legal Basis: 47 U.S.C. 154, 303, 309, 310, 334, and 336.

Section Number and Title:

73.1690(b)(9) Modification of transmission systems.

Brief Description: These rules require that television station public inspection files be made available in an online public file that is hosted on the Commission's website. (Standardized and Enhanced Disclosure Requirements for Television Broadcast Licensee Public Interest Obligations; Extension of the Filing Requirement for Children's Television Programming Report (FCC Form 398), Second Report and Order, FCC 12-44).

Need: These rules are necessary to provide guidance as to what documents must be maintained in a television station's online public file.

Legal Basis: 47 U.S.C. 154, 303, 307, and 554.

Section Number and Title:

73.1943(d) Political file.

Brief Description: There rules afford eligible entities that acquire an expiring construction permit additional time to build out, revises the Commission's equity/debt plus attribution standard to facilitate investment in eligible entities, and adopts other policies to prevent discrimination in transactions and encourage diverse ownership in the broadcast industry. (In the Matter of Promoting Diversification of Ownership in the Broadcasting Services, Report and Order and Third Further Notice of Proposed Rulemaking, FCC 07-217).

Need: These rules were adopted to expand opportunities for participation in the broadcasting industry by new entrants and small businesses, including minority- and women-owned businesses.

Legal Basis: 47 U.S.C. 154, 303, 334, 336, and 339.

Section Number and Title:

73.2090 Ban on discrimination in broadcast transactions.

Brief Description: These rules require that television station public inspection files be made available in an online public file that is hosted on the Commission's website. (Standardized and Enhanced Disclosure Requirements for Television Broadcast Licensee Public Interest Obligations; Extension of the Filing Requirement for Children's Television Programming Report (FCC Form 398), Second Report and Order, FCC 12-44).

Need: These rules are necessary to provide guidance as to what documents must be maintained in a television station's online public file.

Legal Basis: 47 U.S.C. 154, 303, 307, and 554.

Section Number and Title:

73.2526(b), (e)(11)(i) Online public inspection file of commercial stations.

73.3527(b), (e)(8) Online public inspection file of noncommercial. educational stations.

Brief Description: There rules afford eligible entities that acquire an expiring construction permit additional time to build out, revises the Commission's equity/debt plus attribution standard to facilitate investment in eligible entities, and adopts other policies to prevent discrimination in transactions and encourage diverse ownership in the broadcast industry. (In the Matter of Promoting Diversification of Ownership in the Broadcasting Services, Report and Order and Third Further Notice of Proposed Rulemaking, FCC 07-217).

Need: These rules were adopted to expand opportunities for participation in the broadcasting industry by new entrants and small businesses, including minority- and women-owned businesses.

Legal Basis: 47 U.S.C. 154, 303, 334, 336, and 339.

Section Number and Title:

73.3555 Note 2 Multiple ownership.

Brief Description: This rule adopts a maximum aggregate national audience reach of any single television station owner and sets for procedures for divestiture in the even the specified national television ownership limit is reached. (Implementation of section 629 of the Consolidated Appropriations Act, 2004 (National Broadcast Television Ownership), Order, FCC 06-117).

Need: These rules are necessary in furtherance of statute and to promote localism, competition, and diversity.

Legal Basis: 47 U.S.C. 154, 303, 334, and 336.

Section Number and Title:

73.3555 (e)(1), (e)(3) Multiple ownership.

Brief Description: These rules provide procedures for processing and allocating new FM channels, modifying the communities of license of existing radio stations, and amending the FM Table of allotments. They were adopted collectively by the Commission. (Revision of Procedures Governing Amendments to FM Table of Allotments and Changes of Community of License in the Radio Broadcast Services, Report and Order, FCC 06-163).

Need: These rules are necessary to provide streamlined processes for allocating new FM channels, modifying the communities of license of existing radio stations, and amending the FM Table of allotments.

Legal Basis: 47 U.S.C. 154, 303, 309, 310, 334, and 336.

Section Number and Title:

73.3571(a)(1), (j) Processing of AM broadcast station applications.

Brief Description: This rule implements procedures designed to promote ownership and programming diversity, especially by Native American tribes, and to streamline processing of AM radio applications. (Policies To Promote Rural Radio Service and To Streamline Allotment and Assignment Procedures, Second Report and Order, FCC 11-28).

Need: This rule is necessary to provide a process for filing and processing certain AM radio applications.

Legal Basis: 47 U.S.C. 154, 303, 334, 336, and 339.

Section Number and Title:

73.3571(h)(1)(ii) and note Processing of AM broadcast station applications.

Brief Description: This rule implements procedures designed to promote ownership and programming diversity, especially by Native American tribes, and to streamline processing of AM radio applications. (Policies To Promote Rural Radio Service and To Streamline Allotment and Assignment Procedures, Report and Order and Further Notice of Proposed Rulemaking, FCC 10-24).

Need: This rule is necessary to provide a process for filing and processing certain AM radio applications.

Legal Basis: 47 U.S.C. 154, 303, 334, 336, and 339.

Section Number and Title:

73.3571(h)(4)(iii), (k) Processing of AM broadcast station applications.

Brief Description: This rule implements a process to enable Class A television stations to complete the digital transition process. (Digital Low Power Television, Television Translator, and Television Booster Stations and To Amend Rules for Digital Class A Television Stations, Second Report and Order, FCC 11-110).

Need: The rule is necessary to enable Class A stations to complete their transition from analog to digital operations.

Legal Basis: 47 U.S.C. 154, 303, 334, 336, and 339.

Section Number and Title:

73.3572(h) Processing of TV broadcast, Class A TV broadcast, low power TV, TV translators, and TV booster applications.

Brief Description: These rules provide procedures for processing and allocating new FM channels, modifying the communities of license of existing radio stations, and amending the FM Table of allotments. They were adopted collectively by the Commission. (Revision of Procedures Governing Amendments to FM Table of Allotments and Changes of Community of License in the Radio Broadcast Services, Report and Order, FCC 06-163).

Need: This rule is necessary to provide streamlined processes for allocating new FM channels, modifying the communities of license of existing radio stations, and amending the FM Table of allotments.

Legal Basis: 47 U.S.C. 154, 303, 309, 310, 334, and 336.

Section Number and Title:

73.3573(a)(1), Note 1, (g) Processing of FM broadcast station applications.

Brief Description: These rules require that television station public inspection files be made available in an online public file that is hosted on the Commission's website. (Standardized and Enhanced Disclosure Requirements for Television Broadcast Licensee Public Interest Obligations; Extension of the Filing Requirement for Children's Television Programming Report (FCC Form 398), Second Report and Order, FCC 12-44).

Need: These rules are necessary to provide guidance as to what documents must be maintained in a television station's online public file.

Legal Basis: 47 U.S.C. 154, 303, 307, and 554.

Section Number and Title:

73.3580(d)(4)(i) and (ii) Local public notice of filing of broadcast applications.

Brief Description: The rule provides for the construction period and manner of extending a construction permit for LPFM stations. (Creation of a Low Power Radio Service, Third Report and Order, FCC 07-204).

Need: The rule was adopted to ensure the timely construction of LPFM stations while providing necessary flexibility.

Legal Basis: 47 U.S.C. 154, 303, 334, 336, and 339.

Section Number and Title:

73.3598(a) introductory text Period of construction.

Brief Description: There rules afford eligible entities that acquire an expiring construction permit additional time to build out, revises the Commission's equity/debt plus attribution standard to facilitate investment in eligible entities, and adopts other policies to prevent discrimination in transactions and encourage diverse ownership in the broadcast industry. (In the Matter of Promoting Diversification of Ownership in the Broadcasting Services, Report and Order and Third Further Notice of Proposed Rulemaking, FCC 07-217).

Need: These rules were adopted to expand opportunities for participation in the broadcasting industry by new entrants and small businesses, including minority- and women-owned businesses.

Legal Basis: 47 U.S.C. 154, 303, 334, 336, and 339.

Section Number and Title:

73.3598(a)(1) through (3) Period of construction.

Brief Description: These rules provide procedures necessary to ensure that broadcasters were able to timely complete their transitions from analog to digital service and are able to continue to provide digital television service. They were adopted collectively by the Commission. (Third Periodic Review of the Commission's Rules and Policies Affecting the Conversion to Digital Television, Report and Order, FCC 07-228).

Need: These rules ensure that full power broadcasters met their statutory obligation and deadline to convert to digital technology and viewers did not and do not lose service.

Legal Basis: 47 U.S.C. 154, 303, 334 and 336.

Section Number and Title:

73.3598(a), (b) Period of construction.

Brief Description: This rule extends the duration of certain licenses and construction permits, to conform to the new, June 12, 2009, digital television transition date. (Implementation of the DTV Delay Act, Second Report and Order, FCC 09-11).

Need: These rules modify the tolling standard to extend to construction deadline if a station is unable to meet the digital television transition deadline due to international coordination with Mexico and Canada.

Legal Basis: 47 U.S.C. 154, 303, 334, and 336.

Section Number and Title:

73.3598(b)(3) Construction Period

Brief Description: This rule includes reporting requirements on FCC Form 323, “Ownership Report for Commercial Broadcast Stations” to improve Form 323 data collection in order to obtain an accurate, reliable, and comprehensive assessment of minority and female broadcast ownership in the United States. (Promoting Diversification of Ownership in the Broadcasting Services, Report and Order, FCC 09-33).

Need: These rules help improve Form 323 data collection in order to obtain an accurate, reliable, and comprehensive broadcast ownership in the United States.

Legal Basis: 47 U.S.C. 154, 303, 334, 336, and 339.

Section Number and Title:

73.3615(a) Ownership reports.

Subpart I—Procedurs for Competitive Bidding and for Applications for Noncommerical Educational Broadcast Stations on Non-Reserved Channels

Brief Description: These rules implement procedures designed to promote ownership and programming diversity, especially by Native American tribes, and to streamline processing of AM and FM applications. (Policies To Promote Rural Radio Service and To Streamline Allotment and Assignment Procedures, Report and Order and Further Notice of Proposed Rulemaking, FCC 10-24).

Need: These rules are necessary in order to set procedures for competitive bidding and applications for noncommercial educational broadcast stations on non-reserved channels.

Legal Basis: 47 U.S.C. 154, 303, 334, 336, and 339.

Section Number and Title:

73.5002(c) Application and certification procedures; return of mutually exclusive applications not subject to competitive bidding procedures; prohibition of collusion.

73.5005(a) Filing of long-form applications.

73.5007(a), Note 1 Designated entity provisions.

Brief Description: The rule implements methods to facilitate investment in eligible entities and encourage diverse ownership in the broadcast industry. (In the Matter of Promoting Diversification of Ownership in the Broadcasting Services, Report and Order and Third Further Notice of Proposed Rulemaking, FCC 07-217).

Need: These rules were adopted to expand opportunities for participation in the broadcasting industry by new entrants and small businesses, including minority- and women-owned businesses.

Legal Basis: 47 U.S.C. 154, 303, 334, 336, and 339.

Section Number and Title:

73.5008(c) Definitions applicable for designated entity provisions.

Subpart J—Class A Television Broadcast Stations

Brief Description: These rules permit the use of distributed transmission system technologies in the digital television service. The rules allow DTV station licensees and permittees to use DTS technologies where feasible in place of a single transmitter to provide service as authorized. (Digital Television Distributed Transmission System Technologies, Report and Order, FCC 08-256).

Need: These rules will help improve some DTV stations' ability to serve more of their viewers within their service areas. For example, we expect that DTS will be especially useful in mountainous areas where single transmitters have been unable to reach viewers in valleys or those blocked by elevated terrain.

Legal Basis: 47 U.S.C. 154, 303, 334, and 336.

Section Number and Title:

73.6023 Distributed transmission systems.

Brief Description: This rule extends FCC Form 323 ownership reporting requirements to low power television stations, including Class A stations, to file biennially. (Promoting Diversification of Ownership in the Broadcasting Services, Report and Order, FCC 09-33).

Need: These rules help improve Form 323 data collection in order to obtain an accurate, reliable, and comprehensive assessment of broadcast ownership in the United States.

Legal Basis: 47 U.S.C. 154, 303, 334, 336, and 339.

Section Number and Title:

73.6026 Broadcast regulations applicable to Class A televisions stations.

Subpart K—Application and Selection Procedures for Reserved Noncommercial Educational Channels, and for Certain Applications for Noncommercial Educational Stations on Non-Reserved Channels

Brief Description: These rules implement procedures designed to promote ownership and programming diversity, especially by Native American tribes, and to streamline processing of AM and FM applications. (Policies To Promote Rural Radio Service and To Streamline Allotment and Assignment Procedures, Report and Order, FCC 11-28).

Need: These rules are necessary to help promote access to radio services in rural areas.

Legal Basis: 47 U.S.C. 154, 303, 334, 336, and 339.

Section Number and Title:

73.7000 Definition of terms (as used in subpart K only).

73.7002(b) Fair distribution of service on reserved band FM channels.

PART 74—EXPERIMENTAL RADIO, AUXILIARY, SPECIAL BROADCAST AND OTHER PROGRAM DISTRIUBTIONAL SERVICES

Subpart—General; Rules Applicable to All Services in Part 74

Brief Description: This rule reduces the regulatory burden for the 18 GHz band by adding new channel-size options for FS operations along with channelization and emission flexibility for multichannel video programming distributors below 18.3 GHz, thereby facilitating the relocation to spectrum at 17.7-18.3 GHz and 19.3-19.7 GHz. (Rechannelization of the 17.7-19.7 GHz Frequency Band for Fixed Microwave Services, Report and Order, FCC 06-141).

Need: These rules are necessary to encourage efficient use of the spectrum by all FS licensees and provide a regulatory environment that will allow MVPDs to provide competitive services while protecting Federal earth stations.

Legal Basis: 47 U.S.C. 154, 303, 307, 336(f), 336(h), and 554.

Section Number and Title:

74.25(c)(3) Temporary conditional operating authority.

74.32(a) Operation in the 17.7-17.8 GHz and 17.8-19.7 GHz Bands.

Subpart E—Aural Broadcast Auxilliary Stations

Brief Description: This rule provides for the use of the 942-944 MHz band. (Non-Substantive Revisions to the Table of Frequency Allocations, Memorandum Opinion and Order, FCC 08-530).

Need: These rules ensure consistency with worldwide spectrum allocations.

Legal Basis: 47 U.S.C. 154, 303, 307, 336(f), 336(h), and 554.

Section Number and Title:

74.502(a) and Note Frequency assignment.

Subpart F—Television Broadcast Auxiliary Stations

Brief Description: These rules reflect what frequencies are available for assignment to television pickup, television STL, television relay and television translator relay stations, and require registration of TV pickup stations in certain spectrum bands. (Facilitating the Use of Microwave for Wireless Backhaul and Other Uses and Providing Additional Flexibility To Broadcast Auxiliary Service and Operational Fixed Microwave Licensees, Report and Order, Further Notice of Proposed Rulemaking, and Memorandum Opinion and Order, FCC 11-120).

Need: These rules are necessary to prevent interference with licensed users of the same and adjacent spectrum bands.

Legal Basis: 47 U.S.C. 154, 302a, 303, 307, 336(f), 336(h), and 554.

Section Number and Title:

74.602(a) introductory text Frequency assignment.

74.605 Registration of stationary television pickup receive sites.

Brief Description: Section 74.638 sets forth the frequency coordination procedures between terrestrial Broadcast Auxiliary Service and Cable Television Relay Service (BAS/CARS) operations and geostationary satellite orbit (GSO) or non-geostationary satellite orbit (NGSO) fixed-satellite service (FSS) operations in the 6875-7075 MHz (7 GHz) and 12750-13250 MHz (13 GHz) bands. (Coordination Between the NonGeostationary and Geostationary Satellite Orbit, Report and Order, FCC 10-15).

Need: These rules are necessary to ensure proper coordination of frequency assignments among Television Broadcast Auxiliary Station licensees, which minimizes the chances of harmful interference.

Legal Basis: 47 U.S.C. 154, 303, 307, 336(f), 336(h), and 554.

Section Number and Title:

74.638(a) through (d) Frequency coordination.

Brief Description: This rule waives the deadline by which Sprint Nextel must complete relocation of the broadcast auxiliary service (BAS) to frequencies above 2025 MHz until February 8, 2010. The rule also eliminates the requirement that MSS entrants to the 2000-2020 MHz band may not begin operations until the BAS incumbents in the top 30 markets by population and all fixed BAS links in the 1990-2025 MHz band have been relocated. MSS entrants will be allowed to conduct operations in markets where the BAS incumbents have not been relocated only if they successfully coordinate with the BAS incumbents. (Relocation of 2 GHz Broadcast Auxiliary Service, Report and Order and Further Notice of Proposed Rulemaking, FCC 09-49).

Need: These rules helped to coordinate the timely relocation of BAS licensees in order to implement new services in the 1990-2025 MHz band.

Legal Basis: 47 U.S.C. 154, 303, 307, 336(f), 336(h) and 554.

Section Number and Title:

74.690(e)(1)(i) Transition of the 1990-2025 MHz band from the Cable Television Relay Service to emerging technologies.

Subpart G—Low Power TV and TV Translator Stations

Brief Description: These rules establish processes to facilitate and enable low power television and television translator stations to transition from analog to digital operations. (Digital Low Power Television, Television Translator, and Television Booster Stations and To Amend Rules for Digital Class A Television Stations, Second Report and Order, FCC 11-110).

Need: These rules are necessary to enable low power television and television translator stations to conduct digital operations.

Legal Basis: 47 U.S.C. 154, 303, 307, 309, 336, and 554.

Section Number and Title:

74.735(b)(1) Power Emissions.

Brief Description: This rule creates a new “replacement” digital television translator service to permit full-service television stations to continue to provide service to viewers within their analog coverage areas who have lost service as a result of those stations' digital transition. The replacement digital television translator license will be associated with the full-service station's main license and will have the same four letter call sign as its associated main station. As a result, a replacement digital television translator license may not be separately assigned or transferred and will be renewed or assigned along with the full-service station's main license. Almost all other rules associated with television translator stations are applied to replacement digital television translators. (Replacement Digital Television Translator Service, Report and Order, FCC 09-36).

Need: These rules help preserve service to viewers who have lost television service as a result of a station's digital transition.

Legal Basis: 47 U.S.C. 154, 303, 307, 336(f), 336(h) and 554.

Section Number and Title:

74.787(a)(5) Digital licensing.

Brief Description: These rules establish processes to facilitate and enable low power television and television translator stations to transition from analog to digital operations. (Digital Low Power Television, Television Translator, and Television Booster Stations and To Amend Rules for Digital Class A Television Stations, Second Report and Order, FCC 11-110).

Need: These rules are necessary to enable low power television and television translator stations to conduct digital operations.

Legal Basis: 47 U.S.C. 154, 303, 307, 309, 336, and 554.

Section Number and Title:

74.787(b)(1) Digital Licensing.

74.794(a)(1), (a)(2)(iii) Digital Emissions.

Brief Description: This rule extends FCC Form 323 ownership reporting requirements to low power television stations to file biennially. (Promoting Diversification of Ownership in the Broadcasting Services, Report and Order, FCC 09-33).

Need: These rules help improve Form 323 data collection in order to obtain an accurate, reliable, and comprehensive assessment of broadcast ownership in the United States.

Legal Basis: 47 U.S.C. 154, 303, 334 336, and 339.

Section Number and Title:

74.797 Biennial Ownership Reports

Subpart L—FM Broadcast Translator Stations and FM Broadcast Booster Stations

Brief Description: These rules modified the FM translator rules to allow AM stations to use currently authorized FM translators for “fill-in” service within their current coverage areas. (Amendment of Service and Eligibility Rules for FM Broadcast Translator Stations, Report and Order, FCC 09-59).

Need: These rules were implemented to help AM radio stations provide a listenable signal to their listeners and better serve their local communities.

Legal Basis: 47 U.S.C. 154, 303, 307, 336(f), 336(h), and 554.

Section Number and Title:

74.1201(a) through (e), (g), (j) Definitions.

74.1231(a), (b), (h) Purpose and permissible service.

74.1232(d) Eligibility and licensing requirements.

74.1263(b) Time of operation.

74.1284(b), (c) Rebroadcasts.

PART 76—MULTICHANNEL VIDEO AND CABLE TELEVISION SERVICE

Subpart A—General

Brief Description: This rule establishes a definition for the term “significantly viewed.” (Implementation of Section 203 of the Satellite Television Extension and Localism Act of 2010 (STELA); Amendments to Section 340 of the Communications Act, Report and Order and Order on Reconsideration, FCC 10-193).

Need: This rule is necessary to implement Section 203 of the Satellite Television Extension and Localism Act of 2010.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.5(i) Definitions.

Brief Description: This rule establishes procedures related to program carriage complaints and entities that elect to resolve a dispute through alternative dispute resolution. (Leased Commercial Access; Development of Competition and Diversity in Video Programming Distribution and Carriage, Second Report and Order, FCC 11-119).

Need: This rule is necessary to establish procedures for resolving program carriage disputes.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.7(g)(2) General special relief, waiver, enforcement, complaint, show cause, forfeiture, and declaratory ruling procedures.

Subpart C—Cable Franchising

Brief Description: These rules address provide guidance and implement section 621(a)(1) of the Communications Act of 1934, which prohibits franchising authorities from unreasonably refusing to award competitive franchises for the provision of cable services. (Implementation of Section 621(a)(1) of the Cable Communications Policy Act of 1984 as amended by the Cable Television Consumer Protection and Competition Act of 1992, Report and Order and Further Notice of Proposed Rulemaking, FCC 06-180).

Need: These rules are necessary for carrying out the Congressional mandate of section 621(a)(1) of the Communications Act of 1934.

Legal Basis: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, and 573.

Section Number and Title:

76.41 Franchise application process.

Subpart D—Carriage of Television Broadcast Signals

Brief Description: This rule provides satellite carriers the authority to offer out-of-market, but “significantly viewed” broadcast television network stations as part of their local service to subscribers. (Implementation of Section 203 of the Satellite Television Extension and Localism Act of 2010 (STELA); Amendments to Section 340 of the Communications Act, Report and Order and Order on Reconsideration, FCC 10-193).

Need: This rule is necessary to implement Section 203 of the Satellite Television Extension and Localism Act of 2010.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.54(c),(g), (i) Significantly viewed signals; method to be followed for special showings.

Brief Description: This rule establishes the standard for which is considered a good quality signal delivered by broadcasters to MVPDS. (Third Periodic Review of the Commission's Rules and Policies Affecting the Conversion to Digital Television, Report and Order, FCC 07-228).

Need: This rule ensures that MVPDs and their subscribers are able to receive clear, high quality broadcast signals.

Legal Basis: 47 U.S.C. 151, 152, 153, 154, 301, 302, 303, 303a, 307, 308, 309, 312, 315, 317, 325, 336, 338, 339, 503, 521, 522, 531, 532, 533, 534, 535, 536, 537, 543, 544, 544a, 545, 548, 549, 552, 554, 556, 558, 560, 561, 571, 572, and 573.

Section Number and Title:

76.55(c)(3) Definitions Applicable to the Must-Carry Rules.

Brief Description: This rule addresses the responsibilities of cable television operators with respect to carriage of digital broadcasters in light of the significant changes to the broadcasting and cable television industries resulting from the digital television transition. (Carriage of Digital Television Broadcast Signals: Amendment to Part 76 of the Commission's Rules, Third Report and Order and Third Notice of Proposed Rulemaking, FCC 07-170).

Need: This rule ensures that cable subscribers will continue to be able to view broadcast stations after the digital transition, and that they will be able to view those broadcast signals at the same level of quality in which they are delivered to the cable system.

Legal Basis: 47 U.S.C. 151, 152, 153, 154, 301, 302, 303, 303a, 307, 308, 309, 312, 315, 317, 325, 336, 338, 339, 503, 521, 522, 531, 532, 533, 534, 535, 536, 537, 543, 544, 544a, 545, 548, 549, 552, 554, 556, 558, 560, 561, 571, 572, and 573.

Section Number and Title:

76.56(d) Signal carriage obligations.

76.56(f) Signal carriage obligations.

76.62(b), (h) Manner of Carriage.

Brief Description: This rule requires satellite carriers to carry digital-only stations upon request in markets in which they are providing any local-into-local service pursuant to the statutory copyright license, and to require carriage of all high-definition signals in a market in which any station's signals are carried in HD. (Carriage of Digital Television Broadcast Signals: Amendment to Part 76 of the Commission's Rules; Implementation of the Satellite Home Viewer Improvement Act of 1999: Local Broadcast Signal Carriage Issues and Retransmission Consent Issues, Second Report and Order, Memorandum Opinion and Order, and Second Further Notice of Proposed Rulemaking, FCC 08-86).

Need: This rule ensures that satellite subscribers will continue to be able to view broadcast stations after the digital transition and receive high-definition signals.

Legal Basis: 47 U.S.C. 151, 152, 153, 154, 301, 302, 303, 303a, 307, 308, 309, 312, 315, 317, 325, 336, 339, 503, 521, 522, 531, 532, 533, 534, 535, 536, 537, 543, 544, 544a, 545, 548, 549, 552, 554, 556, 558, 560, 561, 571, 572, and 573.

Section Number and Title:

76.66(b)(1), (d)(2)(vi), (k) Satellite Broadcast Signal Carriage.

Brief Description: These rules set forth carriage rights for stations that elected as part of the broadcast television incentive auction to relinquish their spectrum usage rights and engage in a channel sharing arrangement. (Innovation in the Broadcast Television Bands: Allocations, Channel Sharing and Improvements to VHF, Report and Order, Report and Order, FCC 12-45).

Need: These rules are necessary to establish carriage rights for broadcast television stations that relinquished their spectrum in the broadcast television incentive auction in order to share a television channel with another television broadcaster.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.66(n) Satellite broadcast signal carriage.

Subpart G—Cablecasting

Brief Description: These rules modernize rules concerning children's programming to include restrictions on displaying internet website addresses. They were adopted collectively by the Commission to modernize its rules implementing the Act in light of the Digital TV Transition. (In the Matter of Children's Television Obligations of Digital Television Broadcasters, Second Order on Reconsideration and Second Report and Order, FCC 06-143).

Need: These rules are necessary to ensure that the Commission's rules continue to respond the Congressional mandate in the Children's Television Act by protecting children from advertising directing them to internet sites.

Legal Basis: 47 U.S.C. 151, 152, 153, 154, 301, 302, 303, 303a, 307, 308, 309, 312, 317, 325, 338, 339, 503, 521, 522, 531, 532, 533, 534, 535, 536, 537, 543, 544, 544a, 545, 548, 549, 552, 554, 556, 558, 560, 561, 571, 572, and 573.

Section Number and Title:

76.225(b) through (e), Note 1 Commercial Limits in Children's Programs.

SUBPART J—OWNERSHIP OF CABLE SYSTEMS

Brief Description: This rule prohibits cable operators from owning or having an attributable interest in cable systems serving more than 30 percent of multichannel video programming subscribers nationwide. It also eliminates the overbuilder exception. (The Commission's Cable Horizontal and Vertical Ownership Limits; Implementation of Section 11 of the Cable Television Consumer Protection and Competition Act of 1992; Implementation of Cable Act Reform Provisions of the Telecommunications Act of 1996; Review of the Commission's Regulations Governing Attribution of Broadcast and Cable/MDS Interests; Review of the Commission's Regulations and Policies Affecting Investment in the Broadcast Industry; Reexamination of the Commission's Cross-Interest Policy, Fourth Report and Order and Further Notice of Proposed Rulemaking, FCC 07-219).

Need: This rule balances the need to ensure that cable operators cannot use their dominant position in the multichannel video programming distribution market to impede unfairly the flow of video programming to consumers with consideration of the efficiencies and other benefits that might be gained through increased ownership or control.

Legal Basis: 47 U.S.C. 152(a), 154(i), 303, 307, 309, 310, and 533.

Section Number and Title:

76.503(a) National Subscriber Limits.

Subpart K—Technical Standards

Brief Description: This rule incorporates by reference the technical standard, developed by an industry standards development body, that was designed to prevent digital television commercial advertisements from being transmitted at louder volumes than the program material they accompany. (Implementation of the Commercial Advertisement Loudness Mitigation (CALM) Act, Report and Order, FCC 11-182).

Need: This rule is necessary to implement the Commercial Advertisement Loudness Mitigation Act to protect viewers from excessively loud commercials.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.607 Transmission of commercial advertisements.

Brief Description: This rule implements requirements for digital cable systems to support unidirectional digital cable products. (Implementation of Section 304 of the Telecommunications Act of 1996: Commercial Availability of Navigation Devices; Compatibility Between Cable Systems and Consumer Electronics Equipment, Third Report and Order and Order on Reconsideration, FCC 10-181). These rules are necessary to improve the operation of the CableCARDs and bolster support for retail CableCARD devices so that consumers may access cable services without the need to lease a set-top box from their cable operator.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.640(b)(4)(ii) and (iii) Support for unidirectional digital cable products on digital cable systems.

Subpart O—Competitive Access To Cable Programming

Brief Description: These rules establish policies and procedures for the consideration of complaints alleging unfair acts involving terrestrially delivered, cable-affiliated programming in violation of section 628(b) of the Communications Act of 1934. These rules will provide competitors to incumbent cable operators with an opportunity to obtain access to certain cable-affiliated programming that they are currently unable to offer their subscribers, thereby promoting competition in the delivery of video to consumer. (Review of the Commission's Program Access Rules and Examination of Programming Tying Arrangements, First Report and Order, FCC 10-17).

Need: These rules are necessary to promote competition in the video distribution market.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.1000 (b), (c)(1), (j), (l), (m) Definitions.

76.1001 Unfair practices generally.

76.1002(b)(2) Specific unfair practices prohibited.

76.1003(c)(3), (e)(1), (g)(1) and (2), (l) Program access proceedings.

76.1004(a) Applicability of program access rules to common carriers and affiliates.

Brief Description: These rules set forth the Commission's program access complaint procedures. (Implementation of the Cable Television Consumer Protection and Competition Act of 1992; Development of Competition and Diversity in Video Programming Distribution: Section 628(c)(5) of the Communications Act; Sunset of Exclusive Contract Prohibition; Review of the Commission's Program Access Rules and Examination of Programming Tying Arrangements, Report and Order and Notice of Proposed Rulemaking, FCC 07-169).

Need: These rules provide procedures for resolving program access disputes in furtherance of section 628 of the Communications Act.

Legal Basis: 47 U.S.C. 151, 152, 153, 154, 301, 302, 302a, 303, 303a, 307, 308, 309, 312, 315, 317, 325, 338, 339, 340, 503, 521, 522, 531, 532, 533, 534, 535, 536, 537, 543, 544, 544a, 545, 548, 549, 552, 554, 556, 558, 560, 561, 571, 572, and 573.

Section Number and Title:

76.1003(i) through (k) Program access proceedings.

Subpart P—Competitive Availability of Navigation Devices

Brief Description: These rules provide for the commercial availability of set top boxes and other consumer equipment used to receive video signals and other services. (Commercial Availability of Navigation Devices, Report and Order, FCC 98-116).

Need: The intended effect of these rules is to expand opportunities for consumers to purchase this equipment from sources other than the service provider.

Legal Basis: 47 U.S.C. 151, 152, 153, 154, 301, 302, 303, 303a, 307, 308, 309, 312, 315, 317, 325, 503, 521, 522, 531, 532, 533, 534, 535, 536, 537, 543, 544, 544a, 545, 548, 549, 552, 554, 556, 558, 560, 561, 571, 572, and 573.

Section Number and Title:

76.1200 Definitions.

76.1201 Rights of Subscribers to Use or Attach Navigation Devices.

76.1202 Availability of Navigations Devices.

76.1203 Incidence of Harm.

76.1206 Equipment Sale or Lease Charged Subsidy Prohibition.

76.1207 Waivers.

76.1208 Sunset of Regulations.

76.1209 Theft of Services.

76.1210 Effect on Other Rules.

Subpart Q—Regulation of Carriage Agreements

Brief Description: This rule pertains to carriage of video programming vendors by multichannel video programming distributors (MVPDs) and the procedures for addressing complaints alleging violations of the Commission's program carriage rules. (Leased Commercial Access; Development of Competition and Diversity in Video Programming Distribution and Carriage, Second Report and Order, FCC 11-119).

Need: These rules are necessary to promote competition and diversity in the video programming and video distribution markets.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.1302(c) through (k) Support for unidirectional digital cable products on digital cable systems.

Subpart T—Notices

Brief Description: This rule establishes annual consumer notice requirements with regards to cable operators charging fees for the rental of navigation devices and CableCARDs. (Implementation of Section 304 of the Telecommunications Act of 1996: Commercial Availability of Navigation Devices; Compatibility Between Cable Systems and Consumer Electronics Equipment, Third Report and Order and Order on Reconsideration, FCC 10-181).

Need: These rules are designed to protect consumers and ensure they are fully informed about fees related to the rental of navigation deices and CableCARDs from cable operators.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.1602(b)(7) and (8) Customer service—general information.

Subpart W—Encoding Rules

Brief Description: These rules establish a definition of “unencrypted broadcast television” and make clear what practices with regards to encoding, storing or managing commercial audiovisual content are not prohibited. (Implementation of Section 304 of the Telecommunications Act of 1996: Commercial Availability of Navigation Devices; Compatibility Between Cable Systems and Consumer Electronics Equipment, Report and Order, FCC 10-181).

Need: These rules are necessary to improve the operation of the CableCARDs and bolster support for retail CableCARD devices so that consumers may access cable services without leasing a set-top box from their cable operators.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.1902(s) Definitions.

76.1908(a) Certain practices not prohibited.

PART 78—CABLE TELEVISION RELAY SERVICE

Subpart B—Applications and Licenses

Brief Description: This rule reduces the regulatory burden for the 18 GHz band by adding new channel-size options for FS operations along with channelization and emission flexibility for multichannel video programming distributors below 18.3 GHz, thereby facilitating the relocation to spectrum at 17.7-18.3 GHz and 19.3-19.7 GHz. (Rechannelization of the 17.7-19.7 GHz Frequency Band for Fixed Microwave Services, Report and Order, FCC 06-141).

Need: These rules are necessary to encourage efficient use of the spectrum by all FS licensees and provide a regulatory environment that will allow MVPDs to provide competitive services while protecting Federal earth stations.

Legal Basis: 47 U.S.C. 152, 153, 154, 301, 303, 307, 308, and 309.

Section Number and Title:

78.19(f) introductory text, (f)(2) Interference.

Brief Description: This rule establishes procedures to be used for frequency coordination between terrestrial Broadcast Auxiliary Service and Cable Television Relay Service (BAS/CARS) operations and geostationary satellite orbit (GSO) or non-geostationary satellite orbit (NGSO) fixed-satellite service (FSS) operations in certain spectrum bands. (Coordination Between the NonGeostationary and Geostationary Satellite Orbit, Report and Order, FCC 10-15).

Need: These rules are necessary to ensure coordination of frequency assignments and prevent interference among users of certain spectrum bands.

Legal Basis: 47 U.S.C. 152, 153, 154, 301, 303, 307, 308, and 309.

Section Number and Title:

78.36(a) through (d) Frequency Coordination.

Brief Description: This rule waives the deadline by which Sprint Nextel must complete relocation of the broadcast auxiliary service (BAS) to frequencies above 2025 MHz until February 8, 2010. The rule also eliminates the requirement that MSS entrants to the 2000-2020 MHz band may not begin operations until the BAS incumbents in the top 30 markets by population and all fixed BAS links in the 1990-2025 MHz band have been relocated. MSS entrants will be allowed to conduct operations in markets where the BAS incumbents have not been relocated only if they successfully coordinate with the BAS incumbents. (Replacement Digital Television Translator Service, Report and Order, FCC 09-36).

Need: These rules helped to coordinate the timely relocation of BAS licensees in order to implement new services in the 1990-2025 MHz band.

Legal Basis: 47 U.S.C. 154, 303, 307, 336(f), 336(h), and 554.

Section Number and Title:

78.40(f)(1)(i) Transition of the 1990-2025 MHz Band from the Cable Television Relay Service to Emerging Technologies.

PART 79—ACCESSIBILITY OF VIDEO PROGRAMMING

Subpart A—Video Programming Owners, Providers, and Distributors

Brief Description: These rules require closed captioning of IP-delivered video programming that is published or exhibited on television with captions. The FCC also imposes closed captioning requirements on certain apparatus that receive or play back video programming, and on certain recording devices. (Closed Captioning of internet Protocol Delivered Video Programming: Implementation of the Twenty-First Century Communications and Video Accessibility Act of 2010, Report and Order, FCC 12-9).

Need: These rules are necessary to enable individuals who are deaf or hard of hearing to have access to captioned IP-delivered video programming pursuant to the Twenty-First Century Communications and Video Accessibility Act of 2010.

Legal Basis: 47 U.S.C. 151, 152(a), 154(i), 303, 307, 309, 310, 330, 544a, 613, and 617.

Section Number and Title:

79.1(a)(4), (c) Closed captioning of televised video programming.

Brief Description: This rule establishes certain requirements for video programming distributors to caption television programming and establishes a standard for exemption from the requirement. (Closed Captioning and Video Description of Video Programming, Report and Order, FCC 12-83).

Need: This rule is necessary to implement section 613 of the Communications Act of 1934 and establishing a process by which video programming distributors may seek an exemption from the Commission's closed captioning requirements.

Legal Basis: 47 U.S.C. 151, 152(a), 154(i), 303, 309, 310, 330, 544a, 613, and 617.

Section Number and Title:

79.1(d)(2), (f)(1) through (4), (f)(10) and (11) Closed captioning of televised video programming.

Brief Description: These rules establish the requirement for certain television broadcasters and multichannel video programming distributor systems to provide video description services. (Video Description: Implementation of the Twenty-First Century Communications and Video Accessibility Act of 2010, Report and Order, FCC 11-126).

Need: These rules are necessary to implement the requirements of the Twenty-First Century Communications and Video Accessibility Act of 2010.

Legal Basis: 47 U.S.C. 154, 303, 334, 336, and 339.

Section Number and Title:

79.1(i)(1) and (2) Closed captioning of televised video programming.

79.3 Audio description of video programming.

Brief Description: This rule establishes a means by which video programming distributors are permitted to provide contact information to the Commission for the handling of closed captioning questions and complaints. (Closed Captioning of Video Programming, Order, FCC 09-109).

Need: This rule is necessary to ensure the Commission has necessary contact information for video programming distributors in order to promptly address closed captioning concerns and complaints.

Legal Basis: 47 U.S.C. 154(i), 303I, and 613.

Section Number and Title:

79.1(i)(3) Closed captioning of televised video programming.

Brief Description: These rules require closed captioning of IP-delivered video programming that is published or exhibited on television with captions. The FCC also imposes closed captioning requirements on certain apparatus that receive or play back video programming, and on certain recording devices. (Closed Captioning of internet Protocol Delivered Video Programming: Implementation of the Twenty-First Century Communications and Video Accessibility Act of 2010, Report and Order, FCC 12-9).

Need: These rules are necessary to enable individuals who are deaf or hard of hearing to have access to captioned IP-delivered video programming pursuant to the Twenty-First Century Communications and Video Accessibility Act of 2010.

Legal Basis: 47 U.S.C. 151, 152(a), 154(i), 303, 307, 309, 310, 330, 544a, 613, and 617.

Section Number and Title:

79.4 Closed captioning of video programming delivered using internet protocol.

Brief Description: Part 79, Subpart A implements section 713 of the Communications Act of 1934, as amended. Section 713, Video Programming Accessibility, was added to the Communications Act by section 305 of the Telecommunications Act of 1996 and directed the Commission to adopt rules that generally require the closed captioning of video programming shown on television. In 2009, the rules were amended by adding paragraphs (a)(5)(i) and (ii) to § 79.1 defining what constitutes “new programming,” subject to captioning requirements for both analog and digital video programming shown on television. Paragraph (i) of this section, which was also added to § 79.1, adopted requirements for video programming distributors to make their contact information available to consumers.

Need: Closed captioning is an assistive technology that provides persons with hearing disabilities access to television programs. Closed captioning displays the audio portion of a television signal as printed words on the television screen. Congress has directed the Commission to prescribe and maintain regulation to implement the provision of closed captioning for video programming shown on television.

Legal Basis: 47 U.S.C. 151, 152(a), 154(i), 303, 330, 544a, 613, and 617.

Section Number and Title:

79.1(a)(5)(i) and (ii) New Programming.

79.1(i) Contact information.

Brief Description: These rules require closed captioning of IP-delivered video programming that is published or exhibited on television with captions. The FCC also imposes closed captioning requirements on certain apparatus that receive or play back video programming, and on certain recording devices. (Closed Captioning of internet Protocol Delivered Video Programming: Implementation of the Twenty-First Century Communications and Video Accessibility Act of 2010, Report and Order, FCC 12-9).

Need: These rules are necessary to enable individuals who are deaf or hard of hearing to be able to have access to captioned IP-delivered video programming pursuant to the Twenty-First Century Communications and Video Accessibility Act of 2010.

Legal Basis: 47 U.S.C. 151, 152(a), 154(i), 303, 307, 309, 310, 330, 544a, 613, and 617.

Section Number and Title:

79.100 Incorporation by reference.

79.101 Closed caption decoder requirements for analog television receivers.

79.102 Closed caption decoder requirements for digital television receivers and converter boxes.

79.103 Closed caption décor requirements for apparatus.

79.104 Closed caption decoder requirements for recording devices.

PART 80—STATIONS IN THE MARITIME SERVICES

Subpart A—General Information

Brief Description: Part 80 rules set forth the conditions under which radio stations may be licensed and used in the maritime services. Subpart A contains the statutory basis for this part of the rules and provides the purpose for which this part is issued.

Need: Section 80.7 provides that certain material is incorporated by reference into this part with the approval of the Director of the Federal Register under 5 U.S.C. 552(a) and 1 CFR part 51. In order to enforce any edition other than that specified in this section, the Federal Communications Commission must publish notice of the change in the Federal Register and the material must be available to the public. The need to continue the coordination with the Federal Register is ongoing.

Legal Basis: 47 U.S.C. 151-155, 301-609; 3 U.S.T. 3450, 3 U.S.T. 4726, 12 U.S.T. 2377.

Section Number and Title:

80.7 Incorporation by reference.

Subpart E—General Technical Standards

Brief Description: The part 80 rules set forth the conditions under which radio may be licensed and used in the maritime services. Subpart E rules prescribe the general technical requirements for the use of frequencies and equipment in the maritime services.

Need: Section 80.203(b)(4) provides for authorized channels to be programmed via computerized remote control, while § 80.231 sets out the technical requirements for a class of equipment used to locate a survival craft or distressed vessel. The need for these rules is ongoing.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.203(b)(4) Authorization of transmitters for licensing.

80.231 Technical Requirements for Class B Automatic Identification System (AIS) equipment.

Subpart F—Equipment Authorization For Compulsory Ships

Brief Description: The part 80 rules set forth the conditions under which radio may be licensed and used in the maritime services. Subpart F rules prescribe the general technical requirements for certification of equipment used on compulsory ships.

Need: Section 80.277 specifies the equipment that may be used by Ship Security Alert Systems (SSAS). The need for this rule is ongoing.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.277 Ship Security Alert System (SASS).

Subpart G—Safety Watch Requirements And Procedures

Brief Description: Part 80 rules set forth the conditions under which radio may be licensed and used in the maritime services. Subpart G rules set out the procedures for Coast Station safety watches.

Need: Section 80.314(d) describes the procedures for canceling false distress alerts. Section 80.327(e), (f), and (g) prescribe procedures for sending, receiving, and canceling of urgency signals. Section 80.329 (g) sets out requirements for stations hearing a safety signal. The need for these rules is ongoing.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.314(d) Distress communications.

80.327(e), (f), (g) Urgency signals and messages.

80.329(g) Safety signals and messages.

Subpart H—Frequencies

Brief Description: The part 80 rules set forth the conditions under which radio may be licensed and used in the maritime services. Subpart H describes the carrier frequencies and general conditions of use for the types of radiotelephony governed by 47 CFR part 80, and § 80.373 specifically describes the carrier frequency pairs assignable for private on-board mobile radiotelephony communications.

Need: Section 80.373(g)(2) allows, where needed, equipment designed for 12.5 kHz channel spacing using the additional frequencies 457.5375 MHz, 457.5625 MHz, 467.5375 MHz, and 467.5625 MHz to be introduced for on-board communications. The need for this section is ongoing.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.373(g)(2) Private communications frequencies.

Subpart I—Station Documents

Brief Description: Part 80 rules set forth the conditions under which radio may be licensed and used in the maritime services. Subpart I requires that licensees of radio stations have current station documents.

Need: Section 80.409(e)(6) requires a weekly entry that verifies that certain safety devices have been tested and inspected.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.409(e)(6) Station logs.

Subpart J—Public Coast Stations

Brief Description: Part 80 rules set forth the conditions under which radio may be licensed and used in the maritime services. Subpart J sets out the requirements and parameters for public coast stations.

Need: Section 80.475(d) sets out requirements for when certain AMTS systems are required to connect to the public switched telephone network. The need for this rule is ongoing.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.475(d) Scope of service of the Automated Maritime Telecommunications System (AMTS).

Subpart R—Technical Equipment Requirements for Cargo Vessels not Subject to Subpart W

Brief Description: The Part 80 rules set forth the conditions under which radio may be licensed and used in the maritime services. Subpart R rules provide the radiotelephone requirements for cargo ships of 300 to 1600 gross tons.

Need: Section 80.882 requires ships subject to this subpart of maintain a watch on the frequency 2182 kHz. The need for this rule is ongoing.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.882 2182 kHz watch.

Subpart S—Compulsory Radiotelephone Installations for Small Passenger Boats

Brief Description: Part 80 rules set forth the conditions under which radio stations may be licensed and used in the maritime services. Subpart S provides that the provisions of Part III of Title III of the Communication Act require United States vessels which transport more than six passengers for hire while such vessels are being navigated on any tidewater within the jurisdiction of the United States adjacent or contiguous to the open sea, or in the open sea to carry a radiotelephone installation complying with this subpart.

Need: Section 80.917(h) sets forth the conditions by which any small passenger vessel, the keel of which was laid after March 1, 1957, must have a reserve power supply located on the same deck as the main wheelhouse or at least one deck above the vessel's main deck, unless the main power supply is so situated. Further, beginning January 2, 2013, any small passenger vessel that does not carry a reserve power supply must carry at least one VHF handheld radiotelephone. The need for this section is ongoing.

Legal Basis: 47 U.S.C. 151-155, 301-609; 3 U.S.T. 3450, 3 U.S.T. 4726, 12 U.S.T. 2377.

Section Number and Title:

80.917(h) Reserve power supply.

Subpart W—Global Maritime Distress and Safety System (GMDSS)

Brief Description: Part 80 rules set forth the conditions under which radio may be licensed and used in the maritime services. Subpart W rules apply to all passenger ships regardless of size and cargo ships of 300 tons gross tonnage and upwards, mostly fishing vessels, with some exceptions.

Need: The rules in this subpart require that all compulsory vessels, including fishing vessels of 300 gross tons or more, must comply with all the GMDSS requirements appropriate to their area of operation. A separate safety system for fishing vessels would be expensive, difficult to administer, and would cause confusion during a distress incident. Sections 80.1101(c)(2)(iii), (c)(3)(iii), (c)(12)(vi),and (c)(13)(x) specify the appropriate performance standards to which listed equipment must conform, as well as applicable testing requirements.

Legal Basis: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

Section Number and Title:

80.1101(c)(2)(iii), (c)(3)(iii), (c)(12)(vi), (c)(13)(x) Performance standards.

Brief Description: Part 80 rules set forth the conditions under which radio stations may be licensed and used in the maritime services. Subpart W contains the rules applicable to the Global Maritime Distress and Safety System (GMDSS). Every ship of the United States subject to part II of title III of the Communications Act or the Safety Convention must comply with the provisions of this subpart. The rules in this subpart are to be read in conjunction with the applicable requirements contained elsewhere in this part; however, in case of conflict, the provisions of this subpart shall govern with respect to the GMDSS. For the purposes of this subpart, distress and safety communications include distress, urgency, and safety calls and messages.

Need: Section 80.1107 provides that unless the normal use of the required radiotelephone station demonstrates that the equipment is operating, a test communication on a required or working frequency must be made each day the ship is navigated. Further, when this test is performed by a person other than the master and the equipment is found to be defective, the master must be promptly notified. The need for this section is ongoing.

Legal Basis: 47 U.S.C. 151-155, and 301-609; 3 U.S.T. 3450, 3 U.S.T. 4726, 12 U.S.T. 2377.

Section Number and Title:

80.1107 Test of radiotelephone station.

PART 87—AVIATION SERVICES

Subpart D—Technical Requirements

Brief Description: Part 87 states the conditions under which radio stations may be licensed and used in the aviation services. Some maritime frequencies are authorized for use by aircraft stations for safety and distress, public correspondence and for operational communications. Subpart D provides for the technical requirements under which radio stations may be licensed and used in the aviation services.

Need: Section 87.133(g) sets forth the carrier frequency tolerances each station operating under this subpart must maintain. Any aeronautical enroute service transmitter operating in U.S. controlled airspace with 8.33 kHz channel spacing (except equipment being tested by avionics equipment manufacturers and flight test stations prior to delivery to their customers for use outside U.S. controlled airspace) must achieve 0.0005% frequency stability when operating in that mode. The need for this section is ongoing.

Legal Basis: 47 U.S.C. 154, 303, and 307(e), unless otherwise noted.

Section Number and Title:

87.133(g) Frequency stability.

Subpart F—Aircraft Stations

Brief Description: Part 87 states the conditions under which radio stations may be licensed and used in the aviation services. Some maritime frequencies are authorized for use by aircraft stations for safety and distress, public correspondence and for operational communications. Subpart F provides that aircraft stations must limit their communications to the necessities of safe, efficient, and economic operation of aircraft and the protection of life and property in the air, except as otherwise specifically provided in this part. Contact with an aeronautical land station must only be attempted when the aircraft is within the service area of the land station.

Need: Sections 87.187(gg) and (hh) provide that the frequencies used for air-ground communications are listed in subpart E and that aircraft stations may use frequencies assigned to Government or non-Government aeronautical stations or radionavigation land stations if the communications are within the aeronautical or radionavigation land station scope of service, including specified frequencies in the Hawaiian islands and other specified coordinate locations.

Further, transmissions by emergency locator transmitters (ELTs) are intended to be actuated manually or automatically and operated automatically as part of an aircraft or a survival craft station as a locating aid for survival purposes. Section 87.195 provides that ELTs that operate only on frequency 121.5 MHz will no longer be certified and that the manufacture, importation, and sale of ELTs that operate only on frequency 121.5 MHz is prohibited beginning July 10, 2019. The need for this section is ongoing.

Legal Basis: 47 U.S.C. 154, 303, and 307(e)., unless otherwise noted.

Section Number and Title:

87.187(gg) and (hh) Frequencies.

87.195 121.5 MHz ELTs.

Subpart J—Flight Test Stations

Brief Description: Part 87 states the conditions under which radio stations may be licensed and used in the aviation services. Some maritime frequencies are authorized for use by aircraft stations for safety and distress, public correspondence and for operational communications. Subpart J provides that the use of flight test stations is restricted to the transmission of necessary information or instructions relating directly to tests of aircraft or components thereof.

Need: Section 87.303(f) denotes the frequencies available for assignment to flight test land and aircraft stations and additional frequencies available for assignment only to flight test stations of aircraft manufacturers. Further, frequency assignments for Flight Test VHF Stations may be based on either 8.33 kHz or 25 kHz spacing. The need for this section is ongoing.

Legal Basis: 47 U.S.C. 154, 303, and 307(e), unless otherwise noted.

Section Number and Title:

87.303(f) Frequencies.

PART 90—PRIVATE LAND MOBILE RADIO SERVICES

Subpart A—General Information

Brief Description: Part 90 sets forth the conditions under which radio communications systems may be licensed and used in the Public Safety, Industrial/Business Radio Pool, and Radiolocation Radio Services. These rules do not govern the licensing of radio systems belonging to and operated by the United States. Sets forth the rules governing the Emergency Alert System (EAS).

Need: Further clarified that and the environmental processing requirements that, together with the procedures specified in § 17.4(c) of this chapter, if applicable, must be complied with prior to initiating construction.

Legal Basis: 47 U.S.C. 154(i), 161, 303(g), 303(r), 332(c)(7), and 1401-1473.

Section Number and Title:

90.5(b) and (f) Other applicable rule parts.

Brief Description: The Part 90 rules set forth the conditions under which radio communications systems may be licensed and used in the Public Safety, Industrial/Business Radio Pool, and Radiolocation Radio Services. Subpart A rules inform the general basis, purposes, and definitions of the rules.

Need: Section 90.5 lists other rule parts of importance that may be referred to with respect to licensing and operations in radio services governed under this part. Section 90.5(n) provides a cross-reference to Part 101, which governs the operation of fixed microwave services. The need for this rule is ongoing for clarity and to prevent confusion.

Legal Basis: Sections 4(i), 11, 303(g), 303(r), and 332(c)(7) of the Communications Act of 1934, as amended, 47 U.S.C. 154(i), 161, 303(g), 303(r), and 332(c)(7), and Title VI of the Middle Class Tax Relief and Job Creation Act of 2012, Public Law 112-96, 126 Stat. 156.

Section Number and Title:

90.5(n) Other applicable rule parts.

Subpart B—Public Safety Pool

Brief Description: Subpart B addresses the Public Safety Radio Pool.

Need: Pursuant to the Middle Class Tax Relief and Job Creation Act of 2012, Public Law 112-96, 126 Stat. 156 (2012), this provision allocates the 758-769 MHz and 788-799 MHz bands for use by the First Responder Network Authority to deploy a nationwide public safety broadband network as prescribed by statute.

Legal Basis: 47 U.S.C. 154(i), 161, 303(g), 303(r), 332(c)(7), 1401-1473.

Section Numbers and Title:

90.19 Nationwide Public Safety Broadband Network.

Brief Description: Subpart B outlines regulations for frequencies the Public Safety Radio Pool.

Need: For administrative convenience and clarity assigned channel names for the thirty-two frequency pairs listed in paragraph (d)(66)(i).

Legal Basis: 47 U.S.C. 154(i), 161, 303(g), 303(r), 332(c)(7), and 1401-1473.

Section Numbers and Title:

90.20(d)(66)(i) Public Safety Pool.

Brief Description: These rules set forth the conditions under which radio communications systems may be licensed and used in the Public Safety, I. These rules do not govern the licensing of radio systems belonging to and operated by the United States.

Need: The rules were amended to clarify the frequencies available to Public Safety Entities.

Legal Basis: 47 U.S.C. 154(i), 161, 303(g), 303(r), 332(c)(7), and 1401-1473.

Section Numbers and Title:

90.20(c)(7) Additional frequencies available.

Brief Description: Subpart B concerns the frequencies generally available to Public Safety Entitles.

Need: Grandfathered public safety licensees licensed to operate on 157.225 MHz/161.825 MHz and 157.275 MHz/161.875 MHz.

Legal Basis: 47 U.S.C. 154(i), 161, 303(g), 303(r), 332(c)(7), and 1401-1473.

Section Number and Title:

90.20(g)(2)(ii) Additional frequencies available.

Brief Description: This part states the conditions under which radio communications systems may be licensed and used in the Public Safety Pool. These rules do not govern the licensing of radio systems belonging to and operated by the United States.

Need: This part states the conditions under which radio communications systems may be licensed and used in the Public Safety Pool. These rules do not govern the licensing of radio systems belonging to and operated by the United States.

Legal Basis: 47 U.S.C. 154(i), 161, 303(g), 303(r), and 332(c)(7).

Section Number and Title:

90.20(g)(3)(i) and (ii), (g)(3)(iii)(B) and (D), and (g)(3)(vi) Public Safety Pool.

Subpart C—Industrial/Business Radio Pool

Brief Description: Subpart addresses the Industrial/Business Pool including the entities eligible for licensure in the pool.

Need: The rules were amended to increase the availability of frequencies in the Industrial/Business Pool to Public Safety licensees.

Legal Basis: 47 U.S.C. 154(i), 161, 303(g), 303(r), 332(c)(7), and 1401-1473.

Section Numbers and Titles:

90.35(a)(5) Eligibility.

Brief Description: Part 90 rules set forth the conditions under which radio communications systems may be licensed and used in the Public Safety, Industrial/Business Radio Pool, and Radiolocation Radio Services. Subpart C rules set forth the rules specific to the Industrial/Business Radio Pool.

Need: Section 90.35(c)(91) explains assignment limitations to the frequency table, specifically a cross-reference that Subpart M of this part contains rules for assignment of frequencies in the 5850-5925 MHz band. This reference is necessary for clarity of the section.

Legal Basis: Sections 4(i), 11, 303(g), 303(r), and 332(c)(7) of the Communications Act of 1934, as amended, 47 U.S.C. 154(i), 161, 303(g), 303(r), and 332(c)(7), and Title VI of the Middle Class Tax Relief and Job Creation Act of 2012, Public Law 112-96, 126 Stat. 156.

Section Number and Title:

90.35(c)(91) Industrial/Business Pool (title of 90.35).

Subpart F—Radiolocation Service

Brief Description: The Radiolocation Service accommodates the use of radio methods for determination of direction, distance, speed, or position for purposes other than navigation. Rules as to eligibility for licensing, permissible communications, frequency available, and any special requirements are set forth in this subpart.

Need: Clarifies that the frequency band set forth in the table in 103(b) is shared with and stations operating in this frequency band in this service are on a secondary basis to stations licensed in the Maritime Mobile Service.

Legal Basis: 47 U.S.C. 154(i), 161, 303(g), 303(r), 332(c)(7), and 1401-1473.

Section Number and Titles:

90.103(c)(1) Radiolocation Service.

Brief Description: Part 90 sets forth the conditions under which radio communications systems may be licensed and used in the Public Safety, Industrial/Business Radio Pool, and Radiolocation Radio Services. These rules do not govern the licensing of radio systems belonging to and operated by the United States.

Need: The rules are needed to implement the Commission's authority under Title III of the Communications Act of 1934, as amended which vests authority in the Federal Communications Commission to regulate radio transmission and to issue licenses for radio stations.

Legal Basis: 47 U.S.C. 154(i), 161, 303(g), 303(r), 332(c)(7), and 1401-1473.

Section Number and Title:

90.103(c)(21) Radiolocation Service.

Subpart G—Supplemental Information to be Routinely Submitted With Applications.

Brief Description: Outlines the information that must be routinely provided with any application for licensure in the Public Safety, Industrial/Business Radio Pool, and Radiolocation Radio Services.

Need: Further clarified that applicants must comply with the environmental provisions of § 17.4(c).

Legal Basis: 47 U.S.C. 154(i), 161, 303(g), 303(r), 332(c)(7), and 1401-1473.

Section Number and Title:

90.129(g) Supplemental information to be routinely submitted with applications.

Subpart H—Policies Governing the Assignment of Frequencies

Brief Description: Part 90 rules set forth the conditions under which radio communications systems may be licensed and used in the Public Safety, Industrial/Business Radio Pool, and Radiolocation Radio Services. Subpart H rules inform about the policies under which the Commission assigns frequencies for the use of licensees under this part, frequency coordination procedures, and procedures under which licensees may cooperatively share radio facilities.

Need: Sections 90.175(j)(18)-(22) provide types of applications that need not be accompanied by evidence of frequency coordination, including applications for frequencies in the 4940-4990 MHz band. This rule allows for efficiency and streamlining; the need for this rule is ongoing.

Legal Basis: 47 U.S.C. 154(i), 161, 303(g), 303(r), and 332(c)(7), and Title VI of the Middle Class Tax Relief and Job Creation Act of 2012, Public Law 112-96, 126 Stat. 156.

Section Number and Title:

90.175(j)(18) through (21) Frequency coordinator requirements.

90.175(j)(22) Frequency coordinator requirements (title of 90.175).

Subpart I—General Technical Standards

Brief Description: Part 90 states the conditions under which radio communications systems may be licensed and used in the Public Safety, Industrial/Business Radio Pool, and Radiolocation Radio Services. Subpart I sets forth the general technical requirements for use of frequencies and equipment in the radio services governed by this part. Such requirements include standards for acceptability of equipment, frequency tolerance, modulation, emissions, power, and bandwidths.

Need: These technical standards are needed to ensure that public safety communications devices are interoperable and do not cause harmful interference to other authorized communications. Section 90.205(j) specifies the rules for power and height limitations between 758-775 MHz and 788-805 MHz. Section 90.209(b)(5) Table 1, footnote 6 provides that operations using equipment designed to operate with a 25 kilohertz channel bandwidth may be authorized up to a 20 kilohertz bandwidth unless the equipment meets the Adjacent Channel Power limits of 90.221 in which case operations may be authorized up to a 22 kilohertz bandwidth. Section 90.209(b)(7) provides the conditions in which Economic Area (EA)-based licensees in frequencies 817-824/862-869 MHz (813.5-824/858.5-869 MHz) may exceed the standard channel spacing and authorized bandwidth. Section 90.210 Table 1, footnote 5 provides that equipment designed to operate on 25 kilohertz bandwidth channels must meet the requirements of either Emission Mask B or G, whichever is applicable, while equipment designed to operate on 12.5 kilohertz bandwidth channels must meet the requirements of Emission Mask D.

Section 90.221 specifies the frequencies and adjacent channel power limits equipment designed to operate with a 25 kHz channel bandwidth may be authorized up to a 22 kHz bandwidth. The need for these rules is ongoing.

Legal Basis: 47 U.S.C. 154(i), 161, 303(g), 303(r), and 332(c)(7), 1401-1473, and Title VI of the Middle Class Tax Relief and Job Creation Act of 2012, Public Law 112-96, 126 Stat. 156.

Section Number and Title:

90.205(j) Power and antenna height limits.

90.209(b)(5) Table 1, fn 6 Bandwidth limitations.

90.209(b)(7) Bandwidth limitations.

90.210 Table 1, fn 5 Emission masks.

90.221 Adjacent channel power limits.

Subpart J—NON-Voice and Other Specialized Operations

Brief Description: This subpart sets forth requirements and standards for licensing and operation of non-voice and other specialized radio uses (other than radiolocation, including mobile relay stations.

Need: Describes the policies, duties and requirements for frequency coordinators.

Legal Basis: 47 U.S.C. 154(i), 161, 303(g), 303(r), and 332(c)(7).

Section Number and Title:

90.243(b)(1) Mobile relay stations.

Brief Description: Subpart J sets forth requirements and standards for licensing and operation of non-voice and other specialized radio uses (other than radiolocation). Such uses include secondary signaling, telemetry, radioteleprinter, radiofacsimile, automatic vehicle monitoring (AVM), radio call box, relay, vehicular repeater, and control station operations.

Need: Amended provision to allow mobile repeaters to use either analog or digital control tones.

Legal Basis: 47 U.S.C. 154(i), 161, 303(g), 303(r), 332(c)(7), and 1401-1473.

Section Number and Title:

90.247(f) Mobile repeater stations.

Subpart K—Standards for Special Frequencies or Frequency Bands

Brief Description: Sets Forth the policies under which the Commission assigns frequencies for the use of licensees under this part, frequency coordination procedures, and procedures under which licensees may cooperatively share radio facilities.

Need: Describes the policies, duties and requirements for frequency coordinators.

Legal Basis: 47 U.S.C. 154(i), 161, 303(g), 303(r), and 332(c)(7).

Section Number and Title:

90.528(d) Public Safety Broadband License.

Subpart R—Regulations Governing Licensing and Use of Frequencies in the 763-775 and 793-805 MHZ Bands

Brief Description: This subpart regulates licensing and operations of all systems operating in the in the 763-775 and 793-805 MHz bands. It includes eligibility, operational, planning and licensing requirements and technical standards for stations licensed in these bands. Stations eligible to hold authorizations in these bands are State or local government entities, and nongovernmental organizations that provide services, the sole or principal purpose of which is to protect the safety of life, health, or property.

Need: Sections 90.542 and 90.543(e), respectively, set the broadband transmitting power limits and emission limits for this subpart. The need for these rules is ongoing.

Legal Basis: 47 U.S.C. 154(i), 161, 303(g), 303(r), 332(c)(7); Title VI of the Middle Class Tax Relief and Job Creation Act of 2012, Public Law 112-96, 126 Stat. 156.

Section Number and Title:

90.542 Broadband transmitting power limits.

90.543(e) Emission limitations.

Subpart S—Regulations Governing Licensing and Use of Frequencies in the 806-824, 851-869, 896-901, and 935-940 MHZ Bands

Brief Description: Subpart S regulates the frequencies in the 800 MHz band in order to foster the Provision of “Enhanced Specialized Mobile Radio,” a term used to designate 800 MHz systems that employ cellular system architecture.

Need: Revised the 800 MHz band plan for the U.S. Virgin Islands (USVI) in order to accomplish the Commission's goals for 800 MHz band reconfiguration. Created consistency between Puerto Rico and USV.

Legal Basis: 47 U.S.C. 154(i), 161, 303(g), 303(r), 332(c)(7), and 1401-1473.

Section Number and Title:

90.617(k)(1) through (4) Frequencies in the 809.750-824/854.750-869 MHz, and 896-901/935-940 MHz bands available for trunked, conventional or cellular system use in non-border areas.

Brief Description: This subpart regulates licensing and operations of all systems operating in the 806-824/851-869 MHz and 896-901/935-940 MHz bands. It includes eligibility requirements, and operational and technical standards for stations licensed in these bands and also supplements the Commission's Part 1 rules regarding application procedures.

Need: Sections 90.617 (k)(3) and (4) set the minimum required median desired signal for mobile units and portable units for purposes of determining unacceptable interference. These rules result in efficient use of the spectrum regardless of the reconfiguration status of the band while preventing interference along the border and protecting operations by non-cellular licensees.

Legal Basis: 47 U.S.C. 154(i), 161, 303(g), 303(r), and 332(c)(7); Title VI of the Middle Class Tax Relief and Job Creation Act of 2012, Public Law 112-96, 126 Stat. 156.

Section Number and Title:

90.617(k)(3) and (4) Frequencies in the 809.750-824/854.750-869 MHz, and 896-901/935-940 MHz bands available for trunked, conventional or cellular system use in non-border areas (title of 90.617).

Brief Description: This subpart sets out the regulations governing the licensing and operations of all systems operating in the 806-824/851-869 MHz and 896-901/935-940 MHz bands. It includes eligibility requirements, and operational and technical standards for stations licensed in these bands. It also supplements the rules regarding application procedures contained in part 1, subpart F of this chapter. The rules in this subpart are to be read in conjunction with the applicable requirements contained elsewhere in this part; however, in case of conflict, the provisions of this subpart shall govern with respect to licensing and operation in these frequency bands.

Need: Implements bilateral agreements with Canada and Mexico.

Legal Basis: 47 U.S.C. 154(i), 161, 303(g), 303(r), and 332(c)(7).

Section Number and Title:

90.619(c)(2) introductory text, (c)(2) Table C3, (c)(5) introductory text, (c)(5) Table C5, (c)(7) introductory text, (c)(7) Table C7, (c)(11) introductory text Operations within the U.S./Mexico and U.S./Canada border areas.

Brief Description: Subpart S provides for the selection and assignment of frequencies in the 800 MHz band.

Need: Amended the provision to restore language that was inadvertently deleted when the rule was amended in another proceeding.

Legal Basis: 47 U.S.C. 154(i), 161, 303(g), 303(r), 332(c)(7), and 1401-1473

Section Number and Title:

90.621(a) Selection and assignment of frequencies.

Subpart Y—Regulations Governing Licensing and Use of Frequencies in yhe 4940-4990 MHZ Band

Brief Description: This subpart sets out the regulations governing use of the 4940-4990 MHz (4.9 GHz) band. It includes eligibility requirements, and specific operational and technical standards for stations licensed in this band. The rules in this subpart are to be read in conjunction with the applicable requirements contained elsewhere in this part; however, in case of conflict, the provisions of this subpart shall govern with respect to licensing and operation in this band.

Need: Implements bilateral agreements with Canada and Mexico.

Legal Basis: 47 U.S.C. 154(i), 161, 303(g), 303(r), and 332(c)(7).

Section Number and Title:

90.1207(d) Licensing.

PART 95—PERSONAL RADIO SERVICES

Subpart H—Wireless Medical Telemetry Service

Brief Description: Part 95 contains the Commission rules relating to personal radio services. Rules in subpart H contains rules that apply to the Wireless Medical Telemetry Service (WMTS) operating in the 608-614 MHz, 1395-1400 MHz, and 1427-1432 MHz frequency bands. WMTS devices are used for remote monitoring of patients in thousands of health care facilities across the country.

Need: Section 95.2309(b) governs the initial registration requirements prior to the first use of a WMTS device by an authorized health care provider. The need for this rule is ongoing.

Legal Basis: 47 U.S.C. 154, 301, 302(a), 303, and 307.

Section Number and Title:

95.2309(b) WMTS frequency coordination.

Subpart I—Medical Device Radio Communications Service

Brief Description: Part 95 establishes the requirements and conditions under which stations and devices incorporating radio transmitters may be designed, manufactured, certified, marketed, operated and used in the Personal Radio Services. Subpart I contains rules that apply only to the Medical Device Radio Communications (MedRadio) Service.

Need: Section 95.2509 provides that the operation of Medical Body Area Network (MBAN) devices is subject to the frequency coordination procedures in this section. Section 95.2525 provides that to reduce interference and make the most efficient use of the authorized facilities, MedRadio transmitters must share the spectrum in accordance with other specified provisions within this subpart. Section 95.2533(c) provides that MedRadio programmer/control transmitters and medical implant transmitters may not be used to relay information in the 413-419 MHz, 426-432 MHz, 438-444 MHz, and 451-457 MHz bands to a receiver that is not a part of the same Medical Micropower Network (MMN). Section 95.2533(d) provides that medical body-worn transmitters may relay only information in the 2360-2400 MHz band to a MedRadio programmer/control transmitter or another medical body-worn transmitter device that is part of the same Medical Body Area Network (MBAN). Section 95.2557(d) provides that MedRadio programmer/control transmitters operating in the 413-419 MHz, 426-432 MHz, 438-444 MHz, and 451-457 MHz bands shall not transmit with a duty cycle greater than 3 percent. Section 95.2559 provides that to reduce interference and make the most effective use of the MedRadio frequency bands, MedRadio transmitter types must be designed to operate in accordance with the rules in this section. Section 95.2563(e) provides that only MedRadio transmitters that are part of a Medical Micropower Network (MMN) may operate in the 413-419 MHz, 426-432 MHz, 438-444 MHz, and 451-457 MHz bands. Section 95.2565 provides that each MedRadio transmitter type must be designed to maintain a frequency stability of ±100 ppm of the operating frequency over the applicable temperature range set forth in this section. Section 95.2567 provides that each MedRadio transmitter type must be designed such that the MedRadio equivalent isotropically radiated power (M-EIRP) does not exceed the limits in this section. Section 95.2567(e) provides that for MedRadio transmitters operating in the 2360-2390 MHz band, the M-EIRP over the bands of operation must not exceed the lesser of zero dBm (1 mW) or 10 log (B) dBm, where B is the MedRadio 20 dB emission bandwidth in megahertz. Section 95.2567(f) provides that for MedRadio transmitters operating in the 2390-2400 MHz band, the M-EIRP over the bands of operation must not exceed the lesser of 13 dBm (20 mW) or 16 + 10 log (B) dBm, where B is the MedRadio 20 dB emission bandwidth in megahertz. Section 95.2569 provides that compliance with MedRadio equivalent isotropic radiated power (M-EIRP) limits can be determined by measuring the radiated field strength from the transmitter type, in accordance with the rules in this section. Section 95.2573 provides that each MedRadio transmitter type must be designed such that the MedRadio emission bandwidth (as defined in 95.2503) does not exceed the applicable limits set forth in this section. Section 95.2579(a)(5) provides that The field strengths of unwanted emissions from each MedRadio transmitter type, measured at a distance of 3 meters, must not exceed the field strength limits shown in the table in this paragraph for the indicated frequency ranges, if the frequencies of these emissions are, among other things, more than 2.5 MHz outside of the 2360-2400 MHz band (for devices designed to operate in the 2360-2400 MHz band). Section 95.2579(f) provides that for MedRadio transmitter types designed to operate in the 2360-2400 MHz band: In the first 2.5 megahertz above or below any of the frequency bands authorized for MBAN operation, the EIRP of any unwanted emission must be attenuated within a 1 megahertz bandwidth by at least 20 dB relative to the maximum EIRP within any 1 megahertz bandwidth of the fundamental emission. Section 95.2587 provides that the antenna associated with any MedRadio transmitter must be supplied with the transmitter and is considered part of the transmitter subject to equipment authorization and that MedRadio transmitters shall be tested for frequency stability, radiated emissions and EIRP limit compliance in accordance with applicable rules. Section 95.2593(c) provides that MedRadio programmer/control transmitters operating in the 2360-2400 MHz band shall bear the following statement in a conspicuous location on the device: “This device may not interfere with stations authorized to operate on a primary basis in the 2360-2400 MHz band, and must accept any interference received, including interference that may cause undesired operation.” Section 95.2595(c) provides that manufacturers of MedRadio transmitters must include with each transmitting device a disclosure that states that the transmitter must not cause harmful interference to stations operating in the 400.150-406.000 MHz band.

The need for these sections is ongoing.

Legal Basis: 47 U.S.C. 154, 303, and 307.

Section Number and Title:

95.2509 MBAN registration and frequency coordination.

95.2525 MedRadio interference.

95.2533(c), (d) Prohibited MedRadio uses.

95.2557(d) MedRadio duration of transmission.

95.2559 MedRadio channel access requirements.

95.2563(e) MedRadio frequency bands.

95.2565 MedRadio frequency accuracy.

95.2567 MedRadio radiated power limits.

95.2567(e) Transmitters—2360-2390 MHz band.

95.2567(f) Transmitters—2390-2400 MHz band.

95.2569 MedRadio field strength measurements.

95.2573 MedRadio authorized bandwidths.

95.2579(a)(5), (f) MedRadio unwanted emissions limits.

95.2587 MedRadio additional requirements.

95.2593(c) MedRadio labeling requirements.

95.2595(c) MedRadio disclosures.

PART 97—AMATEUR RADIO SERVICE

Subpart A—General Provisions

Brief Description: Part 97 provides the rules and regulations for the amateur radio service. Subpart A provides general provisions for the service, including requirements, restrictions, and definitions.

Need: Section 97.3(a)(27) provides the definition of a licensee's “in-law.” Section 97.31 provides the method and documentation required for requesting cancellation of a license grant on account of the licensee's death. The need for these rules is ongoing.

Legal Basis: 47 U.S.C. 151-155, and 301-609.

Section Number and Title:

97.3(a)(27) Definitions.

97.31 Cancellation on account of the license's death.

Subpart C—Special Operations

Brief Description: Section 97.221 specifies the conditions under which a digital Amateur Radio Service station may be automatically controlled. Section 97.221(c) clarifies when a station may be automatically controlled while emitting a RTTY or data emission.

Need: These rules are needed to ensure that Amateur Radio Service stations operate as intended and do not cause harmful interference, including while being automatically controlled.

Legal Basis: 47 U.S.C. 151-155, and 301-609.

Section Number and Title:

97.221(c) Automatically controlled digital station.

Subpart D—Technical Standards

Brief Description: These rules specify various technical rules for operation of Amateur Radio Service stations, including frequency sharing requirements, authorized emission types, emission standards, and transmitter power standards.

Need: These rules are needed to ensure that Amateur Radio Service stations operate as intended and do not cause harmful interference.

Legal Basis: 47 U.S.C. 151-155, and 301-609.

Section Number and Title:

97.303(h) Frequency sharing requirements.

97.305(c) Authorized emission types.

Brief Description: The rules and regulations of Part 97 are designed to provide for an amateur radio service having, among other principles, (1) recognition and enhancement of the value of the amateur service to the public as a voluntary noncommercial communication service, particularly with respect to providing emergency communications, (2) continuation and extension of the amateur's proven ability to contribute to the advancement of the radio art, and (3) encouragement and improvement of the amateur service through rules which provide for advancing skills in both the communication and technical phases of the art.

Subpart D sets forth the technical standards for equipment operating under this part including authorized frequency bands, emission standards and transmitter power standards.

Need: Section 97.307(f)(14) sets forth the emission standards for the 60 m amateur band. Section 97.313(j) states that no station may transmit with a transmitter output exceeding 10 W PEP when the station is transmitting a SS emission type. The need for these sections is ongoing.

Legal Basis: 47 U.S.C. 151-155, and 301-609, unless otherwise noted.

Section Number and Title:

97.307(f)(14) Emission standards.

97.313(f), (i), (j) Transmitter power standards.

PART 101—FIXED MICROWAVE SERVICES

Subpart C—Technical Standards

Brief Description: Part 101 contains service and licensing rules for Fixed Microwave Services. Subpart C sets forth technical standards for these services.

Need: The revised rules establish antenna standards in the 10,700-11,700 MHz band (101.115(f)) and assignments and conditions for 30 megahertz bandwidth channels in the 6,525-6,875 MHz band (101.147(a) n.33 and (k)(8)). The need for these rules is ongoing.

Legal Basis: 47 U.S.C. 154, 301, 302, 303, 307, and 309.

Section Number and Title:

101.115(f) Emission limitations.

101.147(a) n.33, (k)(8) Frequency assignments.

101.147(a) note (34), (i)(9), (l), (o)(8) Frequency assignments.

[FR Doc. 2023-20561 Filed 9-25-23; 8:45 am]

BILLING CODE 6712-01-P